DEPARTMENT OF TRANSPORTATION

Federal Transit Administration

FTA Fiscal Year 2019 Apportionments, Allocations and Program Information

AGENCY: Federal Transit Administration (FTA), DOT.

ACTION: Notice.

SUMMARY: This notice provides priorities for programs in fiscal year (FY) 2019, announces the full-year apportionments and allocations for grant programs, provides contract authority, and describes plans for several competitive programs.

FOR FURTHER INFORMATION CONTACT: For general information about this notice, contact Kimberly Sledge, Director, Office of Transit Programs, at (202) 366-2053. Please contact the appropriate FTA Regional Office for any specific requests for information or technical assistance. FTA Regional Office contact information is available on FTA's website: www.transit.dot.gov. An FTA headquarters contact for each major program area is included in the discussion of that program in the text of this notice. FTA recommends stakeholders subscribe on FTA's website: www.transit.dot.gov to receive email notifications when new information is available.

SUPPLEMENTARY INFORMATION:

Table of Contents

I. Overview

II. FY 2019 Funding for FTA Programs

A. Funding Available Under Division G of the Consolidated Appropriations Act, 2019 (Pub. L. 116-6)

B. Oversight Takedown

C. FY 2019 Formula Apportionments: Data and Methodology

III. FY 2019 Program Highlights

A. Emergency Relief Docket

B. Policy Priorities

1. Random Drug Testing

2. Public Transportation Agency Safety Plans

C. FY 2019 Competitive Program Funding

IV. FY 2019 Program-Specific Information

A. Metropolitan Planning Program (49 U.S.C. 5303 and 5305(d))

B. State Planning and Research Program (49 U.S.C. 5304 and 5305(e))

C. Urbanized Area Formula Program (49 U.S.C. 5307)

D. Fixed Guideway Capital Investment Grants Program (49 U.S.C. 5309)

E. Formula Grants for the Enhanced Mobility of Seniors and Individuals With Disabilities Program (49 U.S.C. 5310)

F. Formula Grants for Rural Areas Program (49 U.S.C. 5311)

G. Rural Transportation Assistance Program (49 U.S.C. 5311(b)(3))

H. Appalachian Development Public Transportation Assistance Program (49 U.S.C. 5311(c)(2))

I. Formula Grants for Public Transportation on Indian Reservations Program (49 U.S.C. 5311(j))

J. Public Transportation Innovation (49 U.S.C. 5312)

K. Technical Assistance and Workforce Development (49 U.S.C. 5314)

L. Public Transportation Emergency Relief Program (49 U.S.C. 5324)

M. State Safety Oversight Formula Program (49 U.S.C. 5329)

N. State of Good Repair Grants Program (49 U.S.C. 5337)

O. Grants for Buses and Bus Facilities Program (49 U.S.C. 5339)

P. Growing States and High-Density States Formula Factors (49 U.S.C. 5340)

Q. Washington Metropolitan Area Transit Authority Grants

V. FTA Policy and Procedures for FY 2019 Grants

A. Automatic Pre-Award Authority to Incur Project Costs

B. Letter of No Prejudice (LONP) Policy

C. FY 2019 Annual List of Certifications and Assurances

D. Civil Rights Requirements

E. Consolidated Planning Grants

F. Grant Application Procedures

G. Grant Management

I. Overview

This document provides notice to stakeholders that FTA is apportioning the full Fiscal Year (FY) 2019 authorized contract authority through September 30, 2019 for FTA formula and competitive programs pursuant to Division G of the Consolidated Appropriations Act, 2019 (Pub. L. 116-6). In addition, this document contains important information about FTA programs, statutory requirements, and policy priorities.

For each FTA program, FTA has provided information on the FY 2019 authorized funding levels, the basis for apportionment or allocation of funds, requirements specific to the program, the period of availability of funds, and other program information. A separate section provides information on pre-award authority as well as other requirements applicable to FTA programs and grant administration. Finally, the notice includes a reference to tables on FTA's website that show new contract authority apportioned and made available through September 30, 2019.

Information in this document includes references to existing FTA program guidance and circulars. Some information in FTA's guidance documents and circulars may have been superseded by new provisions in the Fixing America's Surface Transportation (FAST) Act (Pub. L. 114-94), but these guidance documents and circulars remain a resource for program management in most areas.

II. FY 2019 Funding for FTA Programs

A. Funding Available Under Division G of the Consolidated Appropriations Act, 2019

Division G of the Consolidated Appropriations Act, 2019 (Pub. L. 116-6) (“Consolidated Appropriations Act, 2019”) makes $13.4 billion in funding available for FTA programs through September 30, 2019. The Consolidated Appropriations Act, 2019 provides funding from the Mass Transit Account at the amounts authorized by the FAST Act for FY 2019, along with an additional $700 million in general funds for transit infrastructure grants including: $350 million for Section 5339 Grants for Buses and Bus Facilities, $263 million for the Section 5337 State of Good Repair grants program, $40 million for the Section 5311 Formula Grants for Rural Areas, $40 million for the Section 5340 High Density States Apportionments, $1 million for the Section 5318 Bus Testing] Facility, and $6 million for low and no emission vehicle testing facilities. Current funding availability for each program is identified in section IV of this notice and in Table 1 located on FTA's FY 2019 Apportionment web page: www.transit.dot.gov/funding/apportionments.

B. Oversight Takedown

Section 5338(f) of title 49, United States Code (all subsequent statutory references are to title 49, United States Code unless otherwise noted) provides for the following oversight takedowns of FTA programs: 0.5 percent of Metropolitan and Statewide Planning funds, 0.75 percent of Urbanized Area Formula Grant funds, 1 percent of Fixed Guideway Capital Investment Grants funds, 0.5 percent of Formula Grants for the Enhanced Mobility of Seniors and Individuals with Disabilities funds, 0.5 percent of Formula Grants for Rural Areas funds, 1 percent of State of Good Repair Formula Grants funds, 0.75 percent of Grants for Buses and Bus Facilities funds, and 1 percent of funds for Capital and Preventive Maintenance Projects for grants to the Washington Metropolitan Area Transit Authority. FTA uses the funds to provide necessary oversight activities, such as oversight of the construction of any major capital project receiving Federal public transportation assistance; to conduct State Safety Oversight, drug and alcohol, civil rights, procurement systems, management, planning certification, and financial management reviews and audits; evaluations and analyses of grantee-specific problems and issues; and to generally provide technical assistance and correct deficiencies identified in compliance reviews and audits.

C. FY 2019 Formula Apportionments: Data and Methodology

1. Apportionment Tables

FTA publishes apportionment tables on its website for each program that reflects the funding level in the full-year appropriations act less oversight take-downs, as applicable. FTA has posted tables displaying the funds available to eligible states, tribes, and urbanized areas to www.transit.dot.gov/funding/apportionments. This website contains a page listing the apportionment and allocation tables for FY 2019, links to prior year formula apportionment notices and tables, and the National Transit Database (NTD) and Census data used to calculate the FY 2019 apportionments.

2. National Transit Database (NTD) and Census Data Used in the FY 2019 Apportionments

Consistent with past practices, the apportionments calculations for Sections 5307, 5311 (including 5311(j) (Tribal Transit)), 5329, 5337, and 5339 rely on the most-recent transit service data reported to the NTD, which for FY 2019 is the 2017 report year. In some cases, where an apportionment is based on the age of the system, the age is calculated as of September 30, 2018, the last day before FY 2019 began. Recipients or beneficiaries of either Section 5307 or 5311 funds are required to report to the NTD. Additionally, several transit operators report to the FTA's NTD on a voluntary basis. For the 2017 report year, the NTD includes data from 939 reporters in urbanized areas, 920 of which reported operating transit service. The NTD also includes data from 1,495 providers of rural transit service, which includes 131 Indian Tribes providing transit service.

The 2010 Census data is used to determine population and population density for Sections 5303, 5305, 5307 and 5339 as well as rural population and rural land area for the 5311 program. The formulas for Sections 5307, 5311, and 5311(j) include tiers where funding is allocated based on the number of persons living in poverty, and the Section 5310 formula program allocates funding based on the population of older adults and people with disabilities. The Census Bureau no longer publishes decennial census data on persons living in poverty and persons with disabilities. As a result, since FY 2013, FTA has used the data for these populations available via the Census' American Community Survey (ACS). The NTD and Census data that FTA used to calculate the apportionments associated with this notice can be found on FTA's website: www.transit.dot.gov/funding/apportionments.

The FY 2019 apportionments use data on low-income persons, persons with disabilities, and older adults from the 2012-2016 ACS five-year data set, which was published in August 2017. This data represents the most recent five-year ACS estimates that are available as of October 1 for the year being apportioned. As was the case in prior years, data on low-income persons comes from ACS Table B17024, “Age by Ratio of Income to Poverty in the Last Twelve Months,” and data on people with disabilities under 65 years old comes from ACS Table S1810, “Disability Characteristics.” Data on older adults (over 65 years old) comes from ACS Table B01001, “Sex by Age.”

III. FY 2019 Program Highlights

A. Emergency Relief Docket

On March 7, 2019 FTA announced the establishment of an Emergency Relief Docket for calendar year 2019. See https://federalregister.gov/d/2019-04110 for more information. After an emergency or major disaster, if FTA requirements impede a grantee or subgrantee's ability to respond to the emergency or major disaster, a grantee or subgrantee may submit a request for temporary relief from FTA administrative and statutory requirements. A grantee or subgrantee seeking relief must submit a petition for waiver of FTA requirements at www.regulations.gov for posting in the docket (FTA-2019-0001). For additional information on the Emergency Relief Docket, please contact the appropriate FTA Regional Office.

B. Policy Priorities

As FTA implements its programs, it is particularly focused on the following policy priority areas in FY 2019.

1. Random Drug Testing

FTA is required to annually publish random testing rates for public transportation employees subject to the requirements of the FTA's Drug and Alcohol Testing regulation (49 CFR part 655). As mandated by its regulation, effective January 1, 2019, FTA increased the required minimum rate of random drug testing from 25 percent to 50 percent of covered employees for recipients of financial assistance under 49 U.S.C. 5307, 5309, 5311, and 5339. The increase to the drug testing rate results from a recent rise in the proportion of violations identified through random drug testing. The minimum random alcohol testing rate will remain at 10 percent.

For information related to drug and alcohol testing, please visit the FTA website: https://www.transit.dot.gov/drug-alcohol-program.

2. Public Transportation Agency Safety Plans

Federal public transportation law at 49 CFR part 673 requires public transportation systems that receive Federal financial assistance under 49 U.S.C. Chapter 53 to develop Public Transportation Agency Safety Plans by July 20, 2020. Specifically, recipients of Section 5307 Urbanized Area Formula Program funds and all rail fixed guideway public transportation systems that receive Federal financial assistance must develop a Public Transportation Agency Safety Plan that adopts and implements Safety Management System principles and methods. Recipients also must certify compliance with this regulation annually, update their Public Transportation Agency Safety Plan annually, set safety performance targets in their plans, and coordinate their Public Transportation Agency Safety Plan elements with other FTA programs and rules, as specified in 49 U.S.C. 5303, 5304, and 5329. For more information on the requirements, please visit the FTA website: www.transit.dot.gov/PTASP.

C. FY 2019 Competitive Program Funding

FTA's competitive grants programs and the FY 2019 appropriated funding levels are identified in the chart below. FTA selects projects for funding after issuance of a Notice of Funding Opportunity. Additional information about each competitive program is in Section III of this notice.

FY 2019 competitive programs | Statute 49 U.S.C. | 2019 appropriated funding level (in millions)
Passenger Ferry Grant Program | 5307(h) | $30.00
Innovative Coordinated Access and Mobility Grants Pilot Program | FAST Section 3006(b) | 3.50
Tribal Transit | 5311(c)(1)(A) | 5.00
Grants for Buses and Bus Facilities Competitive Program | 5339(b) | 423.22
Low or No Emission Grants Competitive Program | 5339(c) | 85.00
TOD Planning Pilot Program | MAP-21 Section 20005(b) | 10.00

IV. FY 2019 Program-Specific Information

A. Metropolitan Planning Program (49 U.S.C. 5303 and 5305(d))

Section 5305(d) authorizes Federal funding to support a cooperative, continuous, and comprehensive planning program for transportation investment decision-making at the metropolitan area level. The specific requirements of metropolitan transportation planning are set forth in 49 U.S.C. 5303 and further explained in 23 CFR part 450, as incorporated by reference in 49 CFR part 613, Planning Assistance and Standards. The State DOTs are the designated recipients of Metropolitan Planning Programs (MPP) and State Planning and Research Program (SPRP) funds allocated by FTA, which are then sub-allocated to Metropolitan Planning Organizations (MPOs) for planning activities that support the economic vitality of the metropolitan area. The Secretary has the discretion to award MPP and SPRP assistance to States, authorities of States, MPOs, and local governmental authorities.

Each MPO must establish specific performance targets against system performance measures issued by U.S. DOT, and use these in tracking progress towards attaining critical outcomes. The MPO must coordinate with States and transit providers in setting these targets. MPOs must provide a system performance report that evaluates progress in meeting the performance targets in comparison with the system performance identified in prior reports.

MPP funding must support work resulting in balanced and comprehensive intermodal transportation planning for the movement of people and goods in the metropolitan area. Comprehensive transportation planning is not limited to transit planning or surface transportation planning, but also encompasses the relationships among land use and all transportation modes, without regard to the programmatic source of Federal assistance. MPP funds may be used for studies relating to management, mobility management, planning, operations, capital requirements, economic feasibility, performance-based planning, safety, and transit asset management. Funds may be used to develop or update the metropolitan planning agreements, and to evaluate previously funded projects or to conduct peer reviews and exchanges of technical data, information, or assistance, among MPOs and other transportation planners. Funds may be used for planning for multimodal transportation access to transit facilities; system planning; scenario planning; corridor-level alternative analysis; development of federally required documents; safety, security and emergency transportation planning; coordinated public transit human services transportation planning; and public participation in the transportation planning, including the development of the Public Participation Plan. An exhaustive list of eligible work activities is provided in FTA Circular 8100.1D, Program Guidance for Metropolitan Planning and State Planning and Research Program Grants, dated September 10, 2018.

For more information or questions on the Metropolitan Planning program, please contact Victor Austin at (202) 366-2996 or victor.austin@dot.gov.

1. Authorized Amounts

Federal public transportation law authorizes $139,087,757 to carry out section 5305. Of the amounts authorized for Section 5305, 82.72 percent, or $115,053,393, is made available to the Metropolitan Planning Program in FY 2019 to provide financial assistance for metropolitan planning needs under Section 5303.

2. FY 2019 Funding Availability

Under the Consolidated Appropriations Act, 2019, $115,053,393 is available to the Metropolitan Planning Program (Section 5305(d)) to support metropolitan transportation planning activities set forth in Section 5303. The total amount apportioned for the Metropolitan Planning Program to States for use by MPOs in urbanized areas (UZAs) is $114,478,126 as shown in the table below, after the deduction for oversight (authorized by Section 5338).

Metropolitan Planning Program
Total Appropriation available | $115,053,393
Oversight Deductions | (575,267)
Total Apportioned | $114,478,126

3. Basis for Formula Apportionment

Of the amounts authorized for Section 5305, 82.72 percent is made available to the Metropolitan Planning Program. As a subset of the Metropolitan Planning Program funds, FTA apportions 80 percent to the states by statutory formula based on the most recent decennial Census for each State's UZA population. The remaining 20 percent is provided to the States based on an FTA administrative formula to address planning needs in larger, more complex UZAs. The amount published for each State includes this supplemental allocation.

4. Requirements

The States allocate Metropolitan Planning funds to MPOs in UZAs or portions thereof to provide funds for planning projects included in a one or two-year program of planning work activities (the Unified Planning Work Program, or UPWP) that includes multimodal systems planning activities spanning both highway and transit planning topics. Each State has either reaffirmed or developed, in consultation with its MPOs, an allocation formula among MPOs within the State, based on the 2010 Census. The allocation formula among MPOs in each State may be changed annually, but any change requires approval by the FTA Regional Office before grant approval. Program guidance for the Metropolitan Planning Program is found in FTA Circular 8100.1D, Program Guidance for Metropolitan Planning and State Planning and Research Program Grants, dated September 10, 2018.

5. Period of Availability

The Metropolitan Planning program funds apportioned in this notice are available for obligation during FY 2019 plus three additional fiscal years. Funds apportioned in FY 2019 must be obligated in grants by September 30, 2022. Any FY 2019 apportioned funds that remain unobligated at the close of business on September 30, 2022, will revert to FTA for reapportionment under the Metropolitan Planning Program.

B. State Planning and Research Program (49 U.S.C. 5304 and 5305(e))

This program provides financial assistance to States for statewide transportation planning and other technical assistance activities, including supplementing the technical assistance program provided through the Metropolitan Planning program and planning support for non-urbanized areas. The specific requirements of Statewide transportation planning are set forth in 49 U.S.C. 5304 and further explained in 23 CFR part 450 as referenced in 49 CFR part 613, Planning Assistance and Standards. State DOTs are required to reference performance measures and performance targets within the Statewide Planning process. This funding must support work resulting in balanced and comprehensive intermodal transportation planning for the movement of people and goods and has the same eligibilities as MPP funds.

For more information or questions on the State Planning and Research program, please contact Victor Austin at (202) 366-2996 or victor.austin@dot.gov.

1. Authorized Amounts

Federal public transportation law authorizes $24,034,364 in FY 2019, to provide financial assistance for statewide planning and other technical assistance activities under Section 5305. As specified in law, this represents the 17.28 percent of the amounts available for Section 5305 that are allocated to the Statewide Planning and Research program.

2. FY 2019 Funding Availability

Under the Consolidated Appropriations Act, 2019, $24,034,364 is available for the State Planning and Research Program (Section 5305(e)). The total amount apportioned for the State Planning and Research Program (SPRP) is $23,914,193 as shown in the table below, after the deduction for oversight (authorized by Section 5338).

Statewide Transportation Planning Program
Total Appropriation available | $24,034,364
Oversight Deductions | (120,171)
Total Apportioned | 23,914,193
States' apportionments for this program are displayed in Table 2.

3. Basis for Formula Apportionment

Of the amount authorized for Section 5305, 17.28 percent is allocated to the State Planning and Research program. FTA apportions funds to States by a statutory formula that is based on the most recent decennial Census data available, specifically, the State's UZA population as compared to the UZA population of all States.

4. Requirements

Funds are provided to States for Statewide transportation planning programs. These funds may be used for a variety of purposes such as planning, technical studies and assistance, performance-based planning, demonstrations, and management training. In addition, a State may authorize a portion of these funds to be used to supplement Metropolitan Planning funds allocated by the State to its UZAs, as the State deems appropriate.

Program guidance for the State Planning and Research program is found in FTA Circular 8100.1D, Program Guidance for Metropolitan Planning and State Planning and Research Program Grants, dated September 10, 2018.

5. Period of Availability

The State Planning and Research program funds apportioned in this notice are available for obligation during FY 2019 plus three additional fiscal years. Accordingly, funds apportioned in FY 2019 must be obligated in grants by September 30, 2022. Any FY 2019 apportioned funds that remain unobligated at the close of business on September 30, 2022 will revert to FTA for reapportionment under the State Planning and Research program.

C. Urbanized Area Formula Program (49 U.S.C. 5307)

The Urbanized Area Formula Program provides financial assistance to designated recipients in urbanized areas (UZAs) for capital investments in public transportation systems, planning, job access and reverse commute projects, and, in some cases, operating assistance. FTA apportions funds for this program through a statutory formula. Of the amount authorized for Section 5307 each year, $30 million is set aside for the competitive Passenger Ferry Grant Program (Ferry program), as authorized under 49 U.S.C. 5307(h). The Ferry program offers financial assistance to public ferry systems in urbanized areas for capital projects. Projects are selected annually through a funding competition. Additionally, 0.5 percent will be apportioned to eligible States for State Safety Oversight (SSO) Program grants, and 0.75 percent will be set aside for program oversight. Further information on the 0.5 percent apportionment to States for the State Safety Oversight Program is provided in section IV.M. of this notice.

For more information or questions on the Urbanized Area Formula Program, contact Tara Clark at (202) 366-2623 or tara.clark@dot.gov. For more information on the Ferry Program, contact Vanessa Williams at (202) 366-4818 or vanessa.williams@dot.gov.

1. Authorized Amounts

Federal public transportation law authorizes $4,827,117,606 in FY 2019 to provide financial assistance for urbanized areas under Section 5307.

2. FY 2019 Funding Availability

Under the Consolidated Appropriations Act, 2019, $5,262,516,268 is available for the Urbanized Area Formula program, which includes the addition of reapportioned funds and amounts apportioned to UZAs pursuant to the Section 5340 Growing States and High-Density States Formula factors. This amount to UZAs excludes the set-aside of $30 million for the Ferry program, apportionments under the State Safety Oversight Program, and oversight (authorized by Section 5338), as shown in the table below:

Urbanized Area Formula Program
Total Appropriation available | ᵃ $4,827,117,606
Oversight Deduction | −36,203,382
State Safety Oversight Program | −24,135,588
Ferry Discretionary Program | −30,000,000
5340 High Density States | 308,004,054
5340 Growing States | 209,758,739
Reapportioned Funds | 7,974,839
Total Apportioned | $5,262,516,268
ᵃ Includes 1.5 percent set-aside for Small Transit Intensive Cities Formula Table 3 displays the amounts apportioned under the Urbanized Area Formula Program.

3. Basis for Formula Apportionment

FTA apportions Urbanized Area Formula Program funds based on statutory formulas. Congress established four separate formulas to apportion available funding: The Section 5307 Urbanized Area Formula Program formula, the Small Transit Intensive Cities (STIC) formula, the Growing States and High-Density States formula, and a formula based on low-income population.

Consistent with prior apportionment notices, Table 3 shows a total Section 5307 apportionment for each UZA, which includes amounts apportioned under each of these formulas. Detailed information about the formulas is provided in Table 4. For technical assistance purposes, the UZAs that receive STIC funds are listed in Table 6. FTA will provide breakouts of the funding allocated to each UZA under these formulas upon request to the FTA Regional Office.

FTA has calculated dollar unit values for the formula factors used in the Urbanized Area Formula Program apportionment calculations. These values represent the amount of money each unit of a factor is worth in this year's apportionment. The unit values change each year, based on all data used to calculate the apportionments, as well as the amount appropriated by Congress for the apportionment. The dollar unit values for FY 2019 are displayed in Table 5. To replicate the basic formula component of a UZA's apportionment, multiply the dollar unit value by the appropriate formula factor (i.e., the population, population × population density), and when applicable, data from the NTD (i.e., route miles, vehicle revenue miles, passenger miles, and operating cost).

a. Section 5307—Urbanized Area Formula

For UZAs between 50,000 and 199,999 in population, the Urbanized Area Formula is primarily based on population and population density. For UZAs with populations of 200,000 or more, the formula is based on population and population density, as well as a combination of bus revenue vehicle miles, bus passenger miles, bus operating costs, fixed guideway vehicle revenue miles, and fixed guideway route miles, either within the UZA or attributable to the UZA. The Urbanized Area Formula is defined in 49 U.S.C. 5336. Consistent with Section 5336(b), FTA has included 27 percent of the fixed guideway directional route miles and vehicle revenue miles from eligible urbanized area transit systems, but which were attributable to rural areas outside of the urbanized areas from which the system receives funds.

b. Small Transit Intensive Cities Formula

Under the Small Transit Intensive Cities (STIC) formula, FTA apportions 2 percent of the funds made available for Section 5307 to UZAs that are under 200,000 in population and have public transportation service that operates at a level equal to or above the industry average for UZAs with a population of at least 200,000, but not more than 999,999. STIC funds are apportioned based on six performance categories: Passenger miles traveled per vehicle revenue mile, passenger miles traveled per vehicle revenue hour, vehicle revenue miles per capita, vehicle revenue hours per capita, passenger miles traveled per capita, and passengers per capita. In FY 2019, the STIC set aside increased from 1.5 percent to 2 percent. The data used to determine a UZA's eligibility under the STIC formula and to calculate the STIC apportionments was obtained from the NTD for the 2017 reporting year. Because performance data change with each year's NTD reports, the UZAs eligible for STIC funds and the amount each receives may vary each year. UZAs that received funding through the STIC formula for FY 2019 are listed in Table 6.

c. Section 5340—Growing States and High-Density States Formula

FTA also apportions funds to qualifying UZAs and States according to the Section 5340 Growing States and High-Density States formula, as shown in Table 3. More information on this program and its formula is found in Section IV.P. of this notice.

d. Low-Income Population

Of the amount authorized and appropriated for the Urbanized Area Formula Program in each year, 3.07 percent is apportioned based on the low-income population. As specified in statute, FTA apportions 75 percent of the available funds to UZAs with a population of 200,000 or more. Funds are apportioned based on the ratio of the number of low-income individuals in each UZA to the total number of low-income individuals in all urbanized areas of that size. FTA apportions the remainder of the funds (25 percent) to UZAs with populations of less than 200,000, per an equivalent formula. The low-income populations used for this calculation were based on the American Community Survey (ACS) data set for 2012-2016. This information is updated by the Census Bureau annually.

4. Requirements

To comply with or maintain compliance with the Clean Air Act (CAA) or the Americans with Disabilities Act (ADA) of 1990, the maximum Federal share for the Urbanized Area Formula Program, including the Passenger Ferry Program, is 85 percent for the net project cost of acquiring vehicles (including clean-fuel or alternative fuel). The maximum Federal share is 90 percent of the net project cost for acquiring vehicle-related equipment or facilities (including clean-fuel or alternative-fuel vehicle-related equipment or facilities) for complying with or maintaining compliance with the CAA or ADA.

Program guidance for the Urbanized Area Formula Program is provided in FTA Circular 9030.1E, Urbanized Area Formula Program: Program Guidance and Application Instructions, dated January 16, 2014.

5. Period of Availability

Funds made available under the Urbanized Area Formula Program are available for obligation during the year of apportionment plus five additional years. Accordingly, funds apportioned in FY 2019 must be obligated by September 30, 2024. Any FY 2019 apportioned funds that remain unobligated at the close of business on September 30, 2024 will revert to FTA for reapportionment under the Urbanized Area Formula Program. Funds allocated under the Passenger Ferry program have the same period of availability as Section 5307. Accordingly, funds allocated in FY 2019 must be obligated by September 30, 2024. Any of the funds allocated in FY 2019 that remain unobligated at the close of business on September 30, 2024 will revert to FTA for reallocation under the Passenger Ferry program.

D. Fixed Guideway Capital Investment Grants Program (49 U.S.C. 5309)

The Capital Investment Grants (CIG) Program includes four types of eligible projects: New Starts projects, Small Starts projects, Core Capacity Improvement projects, and Programs of Inter-related Projects. Funding is provided for construction of: (1) New fixed guideway systems or extensions to existing fixed guideway systems such as rapid rail (heavy rail), commuter rail, light rail, trolleybus (using overhead catenary), cable car, passenger ferries, and bus rapid transit operating on an exclusive transit lane for the majority of the corridor length during peak periods that also includes features that emulate the services provided by rail fixed guideway, including defined stations, traffic signal priority for public transit vehicles, and short headway bi-directional service for a substantial part of weekdays and weekends; (2) corridor-based bus rapid transit service that does not operate on an exclusive transit lane but includes features that emulate the services provided by rail fixed guideway, including defined stations, traffic signal priority for public transit vehicles, and short headway bi-directional services for a substantial part of weekdays; (3) projects that expand the capacity by at least 10 percent in an existing fixed guideway corridor that is at capacity today or will be in five years; and (4) programs of two or more interrelated projects as described above that have logical connectivity with one another and will all begin construction in a reasonable timeframe. FAST Act Section 3005(b) authorizes an Expedited Project Delivery for the CIG Pilot Program.

For more information about the Capital Investment Grant program contact Elizabeth Day, Office of Capital Project Development, at (202) 366-5159 or elizabeth.day@dot.gov. For information about published allocations contact Eric Hu, Office of Transit Programs, at (202) 366-0870 or eric.hu@dot.gov.

1. Authorized Amounts

Federal public transportation law authorizes $2,301,785,760 in FY 2019, to provide financial assistance for Capital Investment Grants under Section 5309 and Section 3005(b) of the FAST Act.

2. FY 2019 Funding Availability

Under the Consolidated Appropriations Act, 2019, $2,552,687,000 is available for Capital Investment Grants for the Fixed Guideway Capital Investment Grants Program and the FAST Act Section 3005(b) Expedited Project Delivery for CIG Pilot Program. The Consolidated Appropriations Act, 2019 requires that $2,169,783,950 of the amount available must be obligated by December 31, 2020. The funds are allocated in the following manner: $1,265,670,000 for New Starts projects; $635,000,000 for Core Capacity projects; $526,500,000 for Small Starts projects; $100,000,000 for FAST Act Section 3005(b) Expedited Project Delivery for CIG Pilot Program projects and $25,517,000 for Oversight. The total amount available for projects is $2,527,170,000 as shown in the table below, after the deduction for oversight (authorized by Section 5338).

Capital Investment Grants Program
Total Appropriation available | $2,552,687,000
Oversight Deduction | (25,517,000)
* Total Apportioned | $2,527,170,000
* Of the total amount apportioned, $2,169,783,950 shall be obligated by December 31, 2020.

3. Basis for Allocation

Funds are allocated on a competitive basis and subject to program evaluation.

4. Requirements

Projects become candidates for funding under the Capital Investment Grants Program by successfully completing steps in the process defined in Section 5309 and obtaining a satisfactory rating under the statutorily defined criteria. For New Starts and Core Capacity Improvement projects, the steps in the process include project development, engineering, and construction. For Small Starts projects, the steps in the process include project development and construction. For programs of interrelated projects, the steps in the process depend on the combination of project types included. FTA issued a Request for Expressions of Interest to Participate in the FAST Act Section 3005(b) Expedited Project Delivery Pilot Program in the Federal Register on September 12, 2018, with submissions due on November 13, 2018.

5. Period of Availability

Capital Investment Grant program funds apportioned in this notice are available for obligation during FY 2019 plus three additional fiscal years. Accordingly, funds apportioned in FY 2019 must be obligated in grants by September 30, 2022, except $2,169,783,950 that must be obligated by December 31, 2020.

E. Formula Grants for the Enhanced Mobility of Seniors and Individuals With Disabilities Program (49 U.S.C. 5310)

The Section 5310 Enhanced Mobility of Seniors and Individuals with Disabilities Program provides formula funding to states and urbanized areas for meeting the transportation needs of older adults and people with disabilities when the public transportation service provided is unavailable, insufficient, or inappropriate to meet these needs. The program aims to improve mobility for seniors and individuals with disabilities by removing barriers to transportation service and expanding transportation mobility options. The Pilot Program for Innovative Coordinated Access and Mobility Program (Pilot Program) was established by Section 3006(b) of the FAST Act. The purpose of the program is to assist in financing innovative projects for the transportation disadvantaged that improve the coordination of transportation services and non-emergency medical transportation (NEMT) services, including, for example, the deployment of coordination technology, and projects that create or increase access to community One-Call/One-Click Centers.

For more information or questions on the Enhanced Mobility of Seniors and Individuals with Disabilities program, please contact Kelly Tyler at (202) 366-3102 or kelly.tyler@dot.gov.

1. Authorized Amounts

Federal public transportation law authorizes $279,646,188 in FY 2019 to provide formula funding to designated recipients and states for meeting the transportation needs of older adults and people with disabilities. The law also authorizes $3.50 million for the competitive Pilot Program.

2. FY 2019 Funding Availability

Under the Consolidated Appropriations Act, 2019, $279,646,188 is available for the Section 5310 formula program. The total amount apportioned is $281,247,957 after the oversight deduction of $1,398,231 as shown in the table below, and a total of $3,500,000 is available for the competitive Pilot Program.

Formula Grants for the Enhanced Mobility of Seniors and Individuals With Disabilities Program
Total Appropriation available | $279,646,188
Oversight Deduction | (1,398,231)
Total Apportioned | $278,247,957

3. Basis for Formula Apportionment

Sixty percent of the funds are apportioned among designated recipients for urbanized areas with a population of 200,000 or more individuals. Twenty percent of the funds are apportioned among the States for urbanized areas with a population of at least 50,000 but less than 200,000. Twenty percent of the funds are apportioned among the States for rural areas, defined as areas with a population less than 50,000. Census Data on Older Adults and People with Disabilities is used for the Section 5310 program apportionments. FY 2019 Apportionments Table 8 displays the amounts apportioned under the Enhanced Mobility of Seniors and Individuals with Disabilities Program. Under the Section 5310 formula, funds are allocated using Census data on older adults (i.e., persons 65 and older) and people with disabilities. However, beginning in 2010, the Census Bureau stopped collecting this demographic information as part of its decennial census. Data on seniors and people with disabilities is now only available from the American Community Survey (ACS), which is conducted and published on a rolling basis. FTA's FY 2019 Section 5310 apportionments incorporate ACS data published in August 2017. Data on seniors comes from the ACS 2012-2016 five-year data set, Table B01001, “Sex by Age.” Data on persons with disabilities comes from the ACS 2012-2016 five-year data set, Table S1810, “Disability Characteristics.”

4. Requirements

At least 55 percent of program funds must be used on traditional Section 5310 projects such as buses and vans; wheelchair lifts, ramps, and securement devices; or transit-related information technology systems including scheduling, routing, one-call systems. Mobility management programs are also defined as capital projects for purposes of this provision. The acquisition of transportation services under a contract, lease, or other arrangement is also eligible; both the capital and operating costs associated with contracted service are eligible capital expenses for purposes of this provision. The capital eligibility of acquisition of services is limited to the Section 5310 program. The remaining 45 percent of a recipient's 5310 funds may be used for capital expenses or operating assistance.

a. Eligible Recipients

Eligible recipients include States for rural and small urban areas and designated recipients for large urban areas; or a State or local governmental entity that operates a public transportation service. For urbanized areas, less than 200,000 in population and in the rural areas, the State is the designated recipient for Section 5310. Current Section 5310 designations remain in effect until changed by the Governor of a State by officially notifying the appropriate FTA Regional Administrator of re-designation. A State or local governmental entity that operates a public transportation service may be a direct recipient for Section 5310 funds.

For urbanized areas over 200,000 in population, the recipient charged with administering the Section 5310 Program must be officially designated in accordance with the planning process, by the Governor of a State, responsible local officials, and publicly owned operators of public transportation prior to grant award (See the definition of designated recipient, 49 U.S.C. 5302(4)). Designated recipients are responsible for administering the program. Eligible subrecipients include State or local governmental authorities, private nonprofit agencies, and operators of public transportation that receive a grant indirectly through a recipient. For the 55 percent of funds that must be used for capital projects, eligible subrecipients include private nonprofit organizations as well as State or local governmental authorities that are either approved by the State to coordinate services for seniors and people with disabilities, or which certify to the Governor that no nonprofit organizations are readily available in the area to provide the service.

b. Local Match

Capital assistance is provided at 80 percent Federal share; 20 percent local share. Operating assistance requires a 50 percent local match. Funds provided under other Federal programs (other than those of the DOT, except for the Federal Lands Transportation Program) may be used as local match for funds provided under Section 5310, and revenue from service contracts may be used as local match.

c. Planning and Consultation

The coordinated planning provision requires that all projects be included in the local coordinated human service-public transportation plan. The plan must be developed and adopted with representation from seniors, individuals with disabilities, representatives of public, private, nonprofit transportation and human services providers, and other members of the public.

d. State and Project Management Plans

States, designated recipients, and State or local governmental entities that operate a public transportation service that are responsible for implementing the Section 5310 program are required to document their approach to managing the program. The Management Plans serve as the basis for FTA management reviews of the program, and provide public information on the administration of the programs.

e. Program of Projects (POP)

Designated recipients are required to develop a Program of Projects (POP) with the grant application and submit it to the FTA Regional Office. The POP should be developed with respect to the coordinated plan, long range plan, and the transportation improvement plan. For additional guidance in developing the required POP, see Chapter IV of the FTA Circular 9070.1G, Enhanced Mobility of Seniors and Individuals with Disabilities Program Guidance and Application Instructions, dated July 7, 2014.

5. Period of Availability

The Enhanced Mobility of Seniors and Individuals with Disabilities program funds apportioned in this notice are available for obligation during FY 2019 plus two additional fiscal years. Accordingly, funds apportioned in FY 2019 must be obligated in grants by September 30, 2021. Any FY 2019 apportioned funds that remain unobligated at the close of business on September 30, 2021, will revert to FTA for reapportionment among the States and urbanized areas.

6. Other Program Information

A State may transfer apportioned funds between small urbanized areas and rural areas if it can certify that the needs are being met in the area to which the funds were originally apportioned. The State can transfer the funds (rural and small urbanized area) to any area within the state if a statewide program for Section 5310 is established. Section 5310 funds may not be transferred to other FTA programs, and Section 5310 funds apportioned to large urbanized areas may not be transferred to other areas. Section 5310 program recipients may partner with meal delivery programs such as the Older Americans Act (OAA)-funded meal programs (to find local programs, visit: www.Eldercare.gov) and the USDA Summer Food Service Program https://www.fns.usda.gov/sfsp/summer-food-service-program. Transit service providers receiving 5310 funds may coordinate and assist in providing meal delivery services on a regular basis if this does not conflict with the provision of transit services.

Program Guidance is found in FTA Circular 9070.1G, Enhanced Mobility of Seniors and Individuals with Disabilities Program Guidance and Application Instructions, dated July 7, 2014.

F. Formula Grants for Rural Areas Program (49 U.S.C. 5311)

The Formula Grants for Rural Areas program provides formula funding to States and Indian tribes for supporting public transportation in areas with a population of less than 50,000. Funding may be used for capital, operating, planning, job access and reverse commute projects, and State administration expenses. Eligible subrecipients include State and local governmental authorities, Indian Tribes, private non-profit organizations, and private intercity bus companies. Indian Tribes are also eligible direct recipients under the Formula Grants for Rural Areas program, both for funds apportioned to the States and for projects apportioned or selected to be funded with funds set aside from the Tribal Transit Program.

For more information about the Formula Grants for Rural Areas program, please contact Élan Flippin at (202) 366-3800 or elan.flippin@dot.gov.

1. Authorized Amounts

Federal public transportation law authorizes $659,322,031 to provide financial assistance for rural areas under the Formula Grants for Rural Areas program. This amount includes $35 million for the Tribal Transit program; $20 million for the Appalachian program; $13,186,441 for the Rural Transit Assistance program; and $591,135,590 for the Rural Formula program. This amount excludes funding for the Section 5340 Growing States Apportionments.

2. FY 2019 Funding Availability

Under the Consolidated Appropriations Act, 2019, $630,335,590 is available for the Rural Area Programs. The total amount apportioned to the program is $716,416,160 as shown in the table below, after the addition of $6,024,853 in reapportioned funds and $83,552,327 for the Section 5340(c) Growing States, and the oversight deduction authorized by Section 5338.

Grants for Rural Areas Formula Program
Total Appropriation available | $630,335,590
Oversight Deduction | (3,496,610)
5340 Growing States | 83,552,327
Reapportioned Funds | 6,024,853
Total Apportioned | 716,416,160

3. Basis for Formula Apportionment

FTA apportions the Formula Grants for Rural Areas program funds to states by a statutory formula using the latest available U.S. decennial census data. Most of the Formula Grants for Formula Grants for Rural Areas program funds (83.15 percent) are apportioned based on land area and population factors. In the first tier, no state may receive more than 5 percent of the amount apportioned based on land area. The remaining funds (16.85 percent) are apportioned based on land area, vehicle revenue miles, and the proportion of low-income individuals. In the second tier, no state may receive more than 5 percent of the amount apportioned based on land area, or more than 5 percent of the amounts apportioned for vehicle revenue miles. In addition to funds made available under Section 5311, FTA adds amounts apportioned based on rural population per the growing states formula factors of 49 U.S.C. 5340 to the amounts apportioned to the states under the Section 5311 formula. Before FTA apportions Section 5311 funds to the states, FTA subtracts funding from the total available amounts for the Appalachian Development Transportation Assistance Program, the Tribal Transit Program, the Rural Transportation Assistance Program (RTAP), and FTA oversight activities.

Data from the National Transit Database (NTD) 2017 Report Year was used for this apportionment, including data from directly-reporting Indian tribes. Data from public transportation systems that reported as urbanized area systems, but not attributable to an urbanized area, was also included. The Formula Grants for Rural Areas program includes three takedowns: The Appalachian Development Public Transportation Assistance Program; the Rural Transportation Assistance Program (RTAP); and the Tribal Transit Program. These separate programs are described in the sections that follow.

4. Requirements

The Formula Grants for Rural Areas program provides funding for capital, operating, planning, job access and reverse commute projects, and administration expenses for public transit service in rural areas under 50,000 in population. The planning activities undertaken with Formula Grants for Rural Areas program funds are in addition to those awarded to the State under Section 5305 and must be used specifically for the needs of rural areas.

a. Intercity Bus Transportation

Each State must spend no less than 15 percent of its annual Formula Grants for Rural Areas program apportionment for the development and support of intercity bus transportation, unless it can certify, after consultation with affected intercity bus service providers, that the intercity bus service needs of the State are adequately met. FTA encourages consultation with other stakeholders, such as communities affected by loss of intercity service. The cost of an unsubsidized portion of privately provided intercity bus service that connects feeder service, including all operating and capital costs of such service whether or not offset by revenue from such service, may be used as in-kind local match for the intercity bus projects.

b. State Administration

States may elect to use up to 10 percent of their apportionment at 100 percent Federal share to administer the Formula Grants for Rural Areas program and provide technical assistance to subrecipients. Technical assistance includes project planning, program and management development, public transportation coordination activities, and research the State considers appropriate to promote effective delivery of public transportation to rural areas.

c. Other Requirements

The Federal share for capital assistance is 80 percent and for operating assistance is 50 percent, except that States eligible for the sliding scale match under FHWA programs may use that match ratio for Formula Grants for Rural Areas program capital projects and 62.5 percent of the sliding scale capital match ratio for operating projects. Each State prepares an annual program of projects, which must provide for fair and equitable distribution of funds within the State, including Indian reservations, and must provide for maximum feasible coordination with transportation services assisted by other Federal sources.

Additional program guidance for the Formula Grants for Rural Areas program is found in FTA Circular 9040.1G, Formula Grants for Rural Areas: Program Guidance and Application Instructions, dated November 24, 2014, and is supplemented by additional information that may be posted to FTA's website.

5. Period of Availability

The Formula Grants for Rural Areas program funds apportioned in this notice are available for obligation during FY 2019 plus two additional fiscal years. Accordingly, funds apportioned in FY 2019 must be obligated in grants by September 30, 2021. Any FY 2019 apportioned funds that remain unobligated at the close of business on September 30, 2021, will revert to FTA for reapportionment under the Formula Grants for Rural Areas program.

6. Other Program Information

Revenue from the sale of advertising and concessions may be used as local match.

G. Rural Transportation Assistance Program (49 U.S.C. 5311(b)(3))

This program provides funding to assist in the design and implementation of training and technical assistance projects, research, and other support services tailored to meet the needs of transit operators in rural areas.

For more information about Rural Transportation Assistance Program (RTAP), please contact Élan Flippin at (202) 366-3800 or elan.flippin@dot.gov.

1. Authorized Amounts

Federal public transportation law authorized $13,186,440, or two percent of the funds made available for the Formula Grants for Rural Areas program, to be made available for the Rural Transportation Assistance Program (RTAP). Of the two percent takedown, 15 percent is reserved for the National RTAP program. The remainder is available for allocation to the States.

2. FY 2019 Funding Availability

Under the Consolidated Appropriations Act, 2019, $13,986,441 is available for the RTAP Program. The total amount apportioned for RTAP is $11,888,475 as shown in the table below, after the deduction for National RTAP.

Rural Transportation Assistance Program (RTAP)
Total Appropriation available | $13,986,441
National RTAP | (2,097,966)
Total Apportioned | 11,888,475

3. Basis for Formula Apportionment

FTA allocates RTAP funds to the States by an administrative formula. First, FTA allocates $65,000 to each State and $10,000 to each territory, and then allocates the balance based on rural population in the 2010 census.

4. Requirements

Eligible RTAP expenses include the design and implementation of training and technical assistance projects, research, and other support services tailored to meet the needs of transit operators in rural areas. States may use the funds to undertake research, training, technical assistance, and other support services to meet the needs of transit operators in rural areas. These funds are to be used in conjunction with a State's administration of the Formula Grants for Rural Areas program, but also may support the rural components of the Section 5310 program.

5. Period of Availability

The RTAP funds apportioned in this notice are available for obligation during FY 2019 plus two additional fiscal years. Accordingly, funds apportioned in FY 2019 must be obligated in grants by September 30, 2021.

6. Other Program Information

The National RTAP project is administered by cooperative agreement and re-competed at five-year intervals. In 2014, FTA awarded a cooperative agreement to the Neponset Valley Transportation Management Association to administer the National RTAP Program. The National RTAP projects are guided by a project review board that consists of managers of rural transit systems and State DOT RTAP programs. National RTAP resources also support the biennial Transportation Research Board National Conference on Rural Public and Intercity Bus Transportation and other research and technical assistance projects of a national scope. The National RTAP project will be recompeted in FY 2019.

H. Appalachian Development Public Transportation Assistance Program (49 U.S.C. 5311(c)(2))

This program is a take-down under the Formula Grants for Rural Areas program to provide additional funding to support public transportation in the Appalachian region. There are sixteen eligible States that receive an allocation under this provision. The State allocations are shown in the Formula Grants for Rural Areas program table posted on FTA's website on the FY 2019 Apportionments page.

For more information about the Appalachian Development Public Transportation Assistance Program, please contact Élan Flippin at (202) 366-3800 or elan.flippin@dot.gov.

1. Authorized Amounts

Federal public transportation law authorizes $20 million in each of FY 2016 through FY 2020 as a take-down under the Formula Grants for Rural Areas program to support public transportation in the Appalachian region.

2. FY 2019 Funding Availability

Under the Consolidated Appropriations Act, 2019, $20 million is available.

Appalachian Development Public Transportation Assistance Program
Total Appropriation available | $20,000,000
Total Apportioned | 20,000,000

3. Basis for Formula Apportionment

FTA apportions the funds using percentages established under Section 9.5(b) of the Appalachian Regional Commission Code (subtitle IV of title 40). Allocations are based in general on each State's remaining estimated need to complete eligible sections of the Appalachian Development Highway System as determined from the latest percentages of available cost estimates for completion of the System. Such cost estimates are produced at approximate five-year intervals. Allocations contain upper and lower limits in amounts determined by the Commission and are made in accordance with legislative instructions.

4. Requirements

Funds apportioned under this program may be used for purposes consistent with the Formula Grants for Rural Areas program to support public transportation in the Appalachian region. Funds can be applied for in the State's annual Formula Grants for Rural Areas program grant.

Appalachian program funds that cannot be used for operating may be used for a highway project under certain circumstances. States should contact their regional office if they intend to request a transfer. Additional information about the requirements for this section can be found in Chapter VII of FTA Circular 9040.1G, Formula Grants for Rural Areas: Program Guidance and Application Instructions, dated November 24, 2014.

5. Period of Availability

The Appalachian program funds apportioned in this notice are available for obligation during FY 2019 plus two additional fiscal years, consistent with that established for the Formula Grants for Rural Areas program.

I. Formula Grants for Public Transportation on Indian Reservations Program (49 U.S.C. 5311(j))

The Public Transportation on Indian Reservations Program, or Tribal Transit Program (TTP), totals $35 million, of which $30 million is for a formula program and $5 million is for a competitive grant program. It is funded as a takedown from funds made available for the Formula Grants for Rural Areas program. Formula factors include vehicle revenue miles and the number of low-income individuals residing on tribal lands (defined as American Indian Areas, Alaska Native Areas, and Hawaiian Home Lands). Eligible direct recipients are Federally recognized Indian tribes and Alaskan Native Villages providing public transportation in rural areas. The TTP funds are allocated for grants to eligible recipients for any purpose eligible under Formula Grants for Rural Areas program, which includes capital, operating, planning, and job access and reverse commute projects.

For more information about the Tribal Transit Program, contact Jasmine Clemons, Office of Transit Programs at (202) 366-2343 or jasmine.clemons@dot.gov.

1. Authorized Amounts

Federal public transportation law authorizes $35 million in FY 2019 to provide assistance to the tribes.

2. FY 2019 Funding Availability

Under the Consolidated Appropriations Act, 2019, $30 million is available for the formula program and $5 million for the competitive program.

Formula Grants for Public Transportation on Indian Reservations Program
Total Appropriation available | $30,000,000
Total Apportioned | 30,000,000

Public Transportation on Indian Reservations Program Competitive Grants
Total Appropriation available | $5,000,000
Total Apportioned | 5,000,000

3. Basis for Formula Apportionment

Funding is allocated by formula and distributed to eligible Indian tribes providing public transportation on tribal lands. The formula apportionment shown in Table 10 is based on a statutory formula which includes three tiers. Tiers 1 and 2 are based on data reported to NTD by Indian tribes; Tier 3 is based on 2012-2016 American Community Survey data. The three tiers for the formula are: Tier 1—50 percent based on vehicle revenue miles reported to the NTD; Tier 2—25 percent provided in equal shares to Indian tribes reporting at least 200,000 vehicle revenue miles to the NTD; Tier 3—25 percent based on Indian tribes providing public transportation on tribal lands (American Indian Areas, Alaska Native Areas, and Hawaiian Home Lands) on which more than 1,000 low income individuals reside. If more than one eligible tribe provides public transportation services on tribal lands in a single Tribal Statistical Area, and the tribes cannot determine how to allocate Tier 3 funds, FTA will allocate the funds based on the relative portion of transit (as defined by unlinked passenger trips) operated by each tribe, as reported to the NTD.

4. Requirements

Formula funds apportioned under this program can be used for purposes consistent with the Formula Grants for Rural Areas program to support public transportation on Indian Reservations in rural areas. Funds allocated under the competitive program must be used consistent with the tribe's proposal and the allocation notice published in the Federal Register, which is used to announce the selected projects. Eligible recipients under both the competitive and formula program include federally recognized Indian tribes or Alaska native villages, groups, or communities as identified by the U.S. Department of the Interior Bureau of Indian Affairs (BIA). A tribe must have the legal, financial, and technical capabilities to receive and administer Federal funds.

Section 5335 requires NTD reporting for all recipients of Section 5311 funds. This reporting requirement continues to apply to the Tribal Transit Program. Tribes that provide public transportation in rural areas are reminded to report annually so they are included in the TTP formula apportionments. To be considered in the FY 2019 formula apportionments, tribes should have submitted their reports to the NTD no later than April 30, 2017; voluntary reporting to the NTD is also encouraged. Additionally, to be considered for the FY 2020 formula apportionment funds, tribes would have submitted their reports to the NTD no later than April 30, 2018. Tribes needing assistance with reporting to the NTD should contact the NTD Helpline at 1-888-252-0936 or NTDHelp@dot.gov.

5. Period of Availability

The TTP formula program funds apportioned in this notice are available for obligation during FY 2019 plus two additional fiscal years. Accordingly, funds apportioned in FY 2019 must be obligated in grants by September 30, 2021. Any FY 2019 apportioned funds that remain unobligated at the close of business on September 30, 2021, will revert to FTA for reapportionment under the TTP formula program. Competitive TTP funds are available for obligation during the FY in which funds are awarded to projects plus two additional years.

6. Other Program Information

Section 207 of title 23, United States Code establishes a Tribal Transportation Self-Governance Program (Self Governance Program). The Self Governance Program will establish specific criteria for determining eligibility for a tribe to participate in the program. A Negotiated Rulemaking to implement this program in consultation with tribal representatives and other interested stakeholders is under development.

The funds set aside for the TTP are not meant to replace or reduce funds that Indian tribes receive from States through the Formula Grants for Rural Areas program but are to be used to enhance public transportation on Indian reservations and transit serving tribal communities. Funds allocated to Indian tribes by the States may be included in the State's Formula Grants for Rural Areas program application or may be awarded by FTA in a grant directly to the Indian tribe. FTA encourages Indian tribes intending to apply to FTA as direct recipients to contact the appropriate FTA Regional Office at the earliest opportunity.

All TTP grantees must comply with all applicable Federal statutes, regulations, executive orders, FTA circulars, and other Federal requirements in carrying out the project supported by the FTA grant. To assist tribes with understanding these requirements, FTA regularly conducts Tribal Transit Technical Assistance Workshops. FTA has also expanded its technical assistance to tribes receiving funds under this program by undertaking Tribal Transit Technical Assistance Assessments. Through these assessments, FTA collaborates with tribal transit leaders to review processes and identify areas in need of improvement and then assist with solutions to address these needs—all in a supportive and mutually beneficial manner. These assessments include discussions of compliance areas pursuant to the Master Agreement, a site visit, promising practices reviews, and technical assistance from FTA and its contractors. FTA will post information about upcoming workshops to its website and will disseminate information about the reviews through its Regional offices. FTA has regional tribal transit liaisons in each of the FTA Regional Offices that are available to assist tribes with applying for and managing FTA grants. Tribes are encouraged to work directly with their regional tribal transit liaison.

J. Public Transportation Innovation (49 U.S.C. 5312)

Public Transportation Innovation is FTA's research program with the overarching statutory goal to improve public transportation. The law specifies research focus areas, including providing more effective and efficient public transportation service; mobility management; system capacity; advanced vehicle design; asset maintenance; construction and project management; environment and energy efficiency; and safety improvements.

FTA may make grants, enter into contracts, cooperative agreements, and other agreements to carry out the research, development, demonstration, and deployment projects, including research and technology of national significance to public transportation.

Within this section are three distinct programs: (a) A Research, Development, Demonstration, Deployment, and Evaluation program (49 U.S.C. 5312(b-e)); (b) a Low or No Emission Vehicle Component Assessment Program (LoNo-CAP) (49 U.S.C. 5312(h)); and (c) a Transit Cooperative Research Program (49 U.S.C. 5312(i)). Eligible recipients can be departments, agencies, and governmental agencies, including Federal Laboratories; state and local entities; providers of public transportation; private or non-profit organizations; institutions of higher education; and technical community colleges. Each program area has specific requirements relating to the type of organization that may receive a grant or enter an agreement.

The types of research eligible for funding are broad and include: Opportunities to enhance public transportation operational effectiveness and efficiency; improve services; leverage new types of vehicle technologies; utilize transformative technologies to improve public transportation; field new mobility models; and support increased safety.

For more information about the Public Transportation Innovation program, contact Edwin Rodriguez, Office of Research, Demonstration and Innovation at (202) 366-0671 or edwin.rodriguez@dot.gov.

For more information on the LoNo-CAP program, please contact Sam Yimer at (202) 366-1321 or samuel.yimer@dot.gov or visit: www.transit.dot.gov/research-innovation/lonocap.

1. Authorized Amounts

Federal public transportation law authorizes $28 million in FY 2019 funding for the Public Transportation Innovation program.

2. FY 2019 Funding Availability

Under the Consolidated Appropriations Act, 2019, $34 million is available for the Public Transportation Innovation program. The total amounts apportioned to each subcomponent of the program is shown below in the table.

Public Transportation Innovation Program
Research, Development, Demonstration, Deployment, & Evaluation | $20,000,000
Low or No Emission Vehicle Component Testing | 3,000,000
Transit Cooperative Research Program (TCRP) | 5,000,000
Low or No Emission Bus Testing | 6,000,000
Total Apportioned | 34,000,000

3. Basis for Allocation

Public Transportation Innovation funds are allocated according to the authorized purposes and amounts described above. The Secretary may make grants and enter contracts, cooperative agreements, and other agreements for research, development, demonstration, and deployment projects, and evaluation of research and technology of national significance to public transportation, that the Secretary determines will improve public transportation. For FY 2019, FTA intends to fund projects and activities consistent with its research priorities of mobility innovation, infrastructure, and safety. Projects may be selected through Notices of Funding Opportunity (NOFO), or Requests for Proposals (RFPs), or sole-sourced. FTA awards to a diverse set of recipients and issues different types of research agreements, including grants, cooperative agreements, contracts, or interagency agreements. Potential recipients can register to receive notification of funding opportunities under this program on Grants.gov.

FTA awards an annual cooperative agreement to the National Academies of Sciences, Engineering, and Medicine to administer the TCRP. FTA solicited proposals for the LoNo-CAP in Fall 2016. Awards were made to Auburn University and The Ohio State University in September 2017. Both facilities are preparing to test Low and No emissions components and are expected to receive $6 million by the end of FY 2019.

4. Requirements

Eligible expenses include activities involving (a) research, innovation, development, demonstration, deployment, evaluation; (b) low or no emission vehicle component testing; and (c) transit cooperative research.

The Federal share for the Research, Innovation, Development, Deployment, and Demonstration program shall not exceed 80 percent unless there is substantial public interest or benefit or it is approved by the Secretary. The remaining 20 percent can be met with in-kind resources. In some cases, FTA may require a higher non-Federal share if FTA determines a recipient would obtain a clear and direct financial benefit from the project, or if the non-Federal share is an evaluation factor under a competitive selection process.

The Low or No Emission Vehicle Component Testing (LoNo-CAP) is a voluntary program in which FTA pays 50 percent of the testing fees and the entity requesting testing pays 50 percent of the fees.

Eligible activities under LoNo-CAP include testing and assessing voluntarily submitted LoNo components for transit buses, publishing the results of these LoNo component assessments, and preparing an annual report to Congress summarizing the results of the component assessments. For more information on the LoNo-CAP program, visit www.transit.dot.gov/research-innovation/lonocap.

All research recipients are required to work with FTA to develop approved Statements of Work. Application instructions and program management guidelines are set forth in FTA Circular C 6100.1E, Research, Technical Assistance and Training Program: Application Instructions and Program Management Guidelines dated May 11, 2015.

5. Period of Availability

Funding is available until expended.

6. Other Program Information

FTA publishes annual research reports on projects, evaluations, and benefits of its research portfolio. The reports can be accessed on FTA's website at www.transit.dot.gov/research-innovation/fta-reports-and-publications. Section 6019(b) of the FAST Act establishes new requirements for annual modal research plans in 49 U.S.C. 6501.

TCRP is a cooperative effort of three organizations: FTA; the National Academies, acting through the Transportation Research Board (TRB); and the Transit Development Corporation, Inc. (TDC), a nonprofit educational and research organization established by the American Public Transportation Association (APTA). FTA funds the TCRP through a cooperative agreement. The TCRP is governed by an independent board, the TCRP Oversight and Project Selection (TOPS) Committee. The TOPS Committee sets priorities to decide what research studies will be undertaken and annually selects projects. The FY 2019 selected projects can be found at: http://onlinepubs.trb.org/onlinepubs/tcrp/docs/finalannouncement2019.pdf.

For more information about TCRP, please contact Faith Hall at (202) 366-9055 or faith.hall@dot.gov.

Pursuant to the Small Business Innovation Development Act, of 1982 (Pub. L. 97-219, amending 15 U.S.C. 638) and reauthorized through FY 2022 by the National Defense Authorization Act for Fiscal Year 2017 (Pub. L. 114-328, 1834), 3.2 percent of the 5312 funds must be set aside for the Department's Small Business Innovation Research Program (SBIR) to address high priority research that will demonstrate innovative, economic, accurate, and durable technologies, devices, applications, or solutions to significantly improve current transit-related service, including transit vehicle operation, safety, infrastructure and environmental sustainability, mobility, rider experience, or broadband communication. Information on current and past SBIR projects can be found on the DOT SBIR website: www.volpe.dot.gov/work-with-us/small-business-innovation-research.

For more information about SBIR, please contact Kenneth Blacks at (202) 366-7106 or Kenneth.blacks@dot.gov.

K. Technical Assistance and Workforce Development (49 U.S.C. 5314)

The Technical Assistance and Workforce Development program, 49 U.S.C. 5314, has three types of programs: Technical assistance and standards development; human resources and training; and the National Transit Institute (NTI). FTA funds projects across these areas to achieve statutory goals to assist the public transportation industry to more effectively and efficiently provide public transportation service; develop standards and best practices; provide specific technical assistance in several areas, including complying with the Americans with Disabilities Act and human services transportation coordination as well as meeting the transportation needs of older adults. Key focus areas for human resources and training are employment training; outreach to aid in recruiting public transportation workers, especially to increase employment for certain targeted groups; frontline workforce development; and advanced training for new and emerging technology areas such as low and no emission bus maintenance. The NTI's goal is to develop and conduct training and educational programs for Federal, State, and local transportation employees and others engaged in public transportation work.

For more information or questions about the Technical Assistance and Workforce Development programs, please contact Betty Jackson, Office of Research, Demonstration, and Innovation at (202) 366-1730 or betty.jackson@dot.gov.

1. Authorized Amounts

Federal public transportation law authorizes $9 million in contract authority for the Technical Assistance and Workforce Development Program, of which $4 million is authorized for NTI. An additional $5 million is authorized to be appropriated from the general fund.

2. FY 2019 Funding Availability

In FY 2019 under the Consolidated Appropriations Act, 2019, $14 million is available for the Technical Assistance and Workforce Development program, as shown in the table below. Of the available amounts $4 million is available for the NTI. The Consolidated Appropriations Act directs not less than $1.5 million be available for a cooperative agreement to assist small-urban, rural, and tribal public transit recipients and planning organizations with applied innovation and capacity-building that is not duplicative of the activities of National RTAP or other FTA research activities.

Technical Assistance and Workforce Development
Total Appropriation available | $14,000,000
Total Apportioned | 14,000,000

3. Basis for Allocation

Under the Technical Assistance and Workforce Development Program, $4 million is authorized for the NTI and the remaining funds are available to support the FTA and USDOT strategic plan for technical assistance, standards development, and workforce development. Projects may be selected through sole source, NOFOs, or RFPs. Potential recipients can register to receive notification of funding availability under this program on Grants.gov. Once selected, FTA enters cooperative agreements, grants, contracts, or other agreements to award funds and manage the projects carried out under this section.

4. Requirements

Eligible expenses include activities involving: (a) Technical assistance; (b) standards development; and (c) human resources and training, including workforce development programs and activities. Eligible technical assistance activities may include activities to support: (a) Compliance with the ADA; (b) compliance with coordinating planning and human services transportation; (c) meeting the transportation needs of elderly individuals; (d) increasing transit ridership in coordination with MPOs and other entities, particularly around transit-oriented development; (e) addressing transportation equity with regard to the effect that transportation planning, investment, and operations have for low-income and minority individuals; (f) facilitating best practices to promote bus driver safety; (g) compliance with Buy America requirements and pre- and post-award audits; (h) assisting with the development and deployment of low and no emission vehicles or components for vehicles; and (i) other technical assistance activities that are necessary to advance the interests of public transportation.

Eligible standards development activities include the development of voluntary and consensus-based standards and best practices by the industry including those needed for safety, fare collection, intelligent transportation systems, accessibility, procurement, security, asset management, operations, maintenance, vehicle propulsion, communications, and vehicle electronics.

Eligible human resources and training activities include (a) employment training programs; (b) outreach programs to increase employment for veterans, females, individuals with disabilities, and minorities in public transportation; (c) research on public transportation personnel and training needs; (d) training and assistance for veteran and minority business opportunities; and (e) consensus-based national training standards and certifications in partnership with industry stakeholders. FTA funding directly allocated for these eligible purposes must be conducted through a competitive frontline workforce development program as required by Section 5314. Should FTA allocate funds for these purposes, it will advertise the available funding in a NOFO on Grants.gov and on its website. In addition, recipients of funds under Sections 5307, 5337, and 5339 may use 0.5 percent of their available funds to pay for workforce development activities (up to an 80 percent Federal share). There is a separate eligibility to use 0.5 percent of available funds under the sections above for training through the NTI.

The Federal share of the cost of a project carried out using a grant under this section shall not exceed 80 percent. However, for the human resources and training, including the Innovative Public Transportation Frontline Workforce Development Program, the Federal share cannot exceed 50 percent. The Federal share for other types of awards will be stated in the agreement. In some cases, FTA may require a higher non-Federal share if FTA determines a recipient would obtain a clear and direct financial benefit from the project, or if the non-Federal share is an evaluation factor under a competitive selection process.

The non-Federal share of the cost of a project carried out under these sections (Technical Assistance and Standards and Technical Assistance and Training) may be derived from in-kind contributions as defined in the most current version of FTA Circular 5010, “Award Management Guidelines” found on FTA's web page at www.transit.dot.gov. Application instructions and program management guidelines are set forth in FTA Circular 6100.1E, “Research, Technical Assistance and Training Programs: Application Instructions and Program Management Guidelines” dated May 11, 2015.

All recipients of Section 5314 funds are required to work with FTA to develop approved statements of work. There is no match requirement for the NTI.

5. Period of Availability

FTA establishes the period in which the funds must be obligated to each project. If the funds are not obligated within that time, they revert to FTA for reallocation under the program.

6. Other Program Information

FTA publishes an annual report to Congress on the technical assistance and standards activities that receive assistance under this section. Additionally, FTA must report annually on the Frontline Workforce Development Program. FTA reports can be found on FTA's website at www.transit.dot.gov.

L. Public Transportation Emergency Relief Program (49 U.S.C. 5324)

FTA's Emergency Relief (ER) Program is authorized to provide funding for public transportation expenses incurred because of an emergency or major disaster. Funds appropriated for this program are used to assist in responding to a declared emergency or disaster. Eligible expenses include emergency operating expenses, such as evacuations, rescue operations, and expenses incurred to protect assets in advance of a disaster, as well as capital projects to protect, repair, reconstruct, or replace equipment and facilities of a public transportation system that the Secretary determines is in danger of suffering serious damage or has suffered serious damage because of an emergency.

Additionally, transit agencies in the affected areas may request relief from certain FTA administrative and regulatory requirements for costs incurred in support of evacuations, rescue efforts, and the efficient shut down and resumption of transit services during and after the storm. Requests for relief from these requirements may be submitted to FTA's Emergency Relief Docket at https://www.regulations.gov/. The docket number for calendar year 2019 is FTA-2019-0001.

FTA encourages transit agencies in affected areas to become familiar with FTA's Emergency Relief Program Manual as well as other resources and best practices, available at www.transit.dot.gov/emergencyrelief. When Congress appropriates funding for FTA's Emergency Relief Program, or at FEMA's direction, FTA will work with agencies to assess the impacts of the storm, including emergency operations and any potential damages to transit rolling stock or facilities.

Recipients of FTA funding affected by a declared emergency or disaster are also authorized to use funds apportioned under Sections 5307 and 5311 for emergency purposes under the provisions of FTA's Emergency Relief Program. Recipients are advised that formula funds disbursed to a grantee for emergency purposes will not be replaced or restored if funding is subsequently made available through FTA under the ER Program or by the Federal Emergency Management Agency (FEMA).

In the event of a disaster affecting a public transportation system, the affected recipient should contact its FTA Regional Office as soon as practicable to determine whether Emergency Relief Program funds are available, and to notify FTA that it plans to seek reimbursement for emergency operations and/or repairs that have already taken place or are in process. If Emergency Relief funds are unavailable, the recipient may seek reimbursement from FEMA. Properly documented costs for which the grantee has not received reimbursement from FEMA may later be reimbursed by grants made either from Emergency Relief Program funding (if appropriated) or from Sections 5307 and 5311 program funding, once the eligible recipient formally applies to FTA for reimbursement and FTA determines that the expenses are eligible for emergency relief.

More information on the Emergency Relief Program and FTA's response to disasters are available on the FTA website at www.transit.dot.gov/emergencyrelief.

For more information or questions on this program, please contact John Bodnar at (202) 366-9091 or john.bodnar@dot.gov.

M. State Safety Oversight Formula Program (49 U.S.C. 5329)

The State Safety Oversight Formula Program provides funding to support States with rail fixed guideway public transportation systems (rail transit systems) to develop and carry out State Safety Oversight (SSO) Programs consistent with the requirements of 49 U.S.C. 5329.

For more information or questions on the Public Transportation Safety program, please contact Kimberly Burtch at (202) 366-0816 or kimberly.burtch@dot.gov.

1. Authorized Amounts

Federal public transportation law authorizes $24,135,588 in FY 2019 to provide funding to support States in developing and carrying out the SSO Program.

2. FY 2019 Funding Availability

Under the Consolidated Appropriations Act, 2019, $24,135,588 is available for the State Safety Oversight (SSO) Formula program as shown in the table below.

State Safety Oversight Formula Program
Total Appropriation available | $24,135,588
Total Apportioned | 24,135,588

3. Basis for Formula Apportionment

FTA will continue to allocate funds to the States by an administrative formula, which is detailed in the Federal Register notice apportioning SSO Formula Grant Program FY 2013 and FY 2014 funds (79 FR 13380, March 10, 2014). Grant funds for the SSO program are apportioned to eligible States using a three-tier formula based on statutory requirements, which apportion sixty percent (60 percent) of available funds based on rail transit system passenger miles traveled (PMT), vehicle revenue miles (VRM), and directional route miles (DRM); twenty percent (20 percent) of available funds equally to each eligible State; and twenty percent (20 percent) based on the number of rail transit systems in each state.

4. Requirements

FTA requires each applicant to demonstrate in its grant application that its proposed grant activities will develop, lead to, or carry out a SSO program that meets the requirements under 49 U.S.C. 5329(e). Grant funds may be used for program operational and administrative expenses, including employee training activities. Please see the Federal Register notice which apportioned SSO Formula Grant Program FY 2013 and FY 2014 funds (79 FR 13380, March 10, 2014) for more information.

5. Period of Availability

SSO Formula Grant Program funds are available for the year of apportionment plus, two additional years. Any FY 2019 funds that remain unobligated at the close of business on September 30, 2021 will revert to FTA for reapportionment under the SSO Formula Grant Program.

N. State of Good Repair Program (49 U.S.C. 5337)

The State of Good Repair Program provides financial assistance to designated recipients in Urbanized Areas (UZAs) with fixed guideway and high-intensity motorbus systems for capital investments that maintain, rehabilitate, and replace aging transit assets and bring fixed guideway and high intensity motorbus systems into a state of good repair. FTA apportions funds for this program through a statutory formula using data reported to the National Transit Database (NTD).

For more information or questions on the State of Good Repair program, please contact Eric Hu at (202) 366-0870 or eric.hu@dot.gov.

1. Authorized Amounts

Federal public transportation law authorizes $2,638,366,859 in FY 2019 for the State of Good Repair Program.

2. FY 2019 Funding Availability

Under the Consolidated Appropriations Act, 2019, $2,901,366,859 is available for the State of Good Repair Program. The total amount apportioned is $2,872,353,190 after the deduction for oversight as shown in the table below.

State of Good Repair Program
Total Appropriation available | $2,901,366,859
Oversight Deduction | (29,013,669)
Total Apportioned | 2,872,353,190

3. Basis for Formula Apportionment

FTA apportions State of Good Repair Program funds per a statutory formula. Funds are apportioned to urbanized areas with fixed guideway or high-intensity motorbus systems that have been in operation for at least seven years. This means that only segments of fixed guideway and high-intensity motorbus systems that entered revenue service on or before September 30, 2011 are included in the formula, as identified in the NTD. Funds apportioned to urbanized areas with fixed guideway are determined by two equal elements: (1) A fixed proportion, based on the proportion an urbanized area would have received in FY 2011 to the total amount apportioned to all urbanized areas in the FY 2011 Fixed Guideway Modernization program using the fixed guideway definition defined in prior law; and (2) a variable proportion, based on the proportion of vehicle revenue miles and directional route miles attributed to an urbanized area relative to all urbanized areas, with revenue miles weighted for 60 percent of this element and directional miles weighted for 40 percent of this element. Funds apportioned to urbanized areas with motorbus systems are 60 percent based on revenue miles and 40 percent based on route miles that attributed to an urbanized area relative to all urbanized areas. The fixed guideway tier is apportioned 97.15 percent of the total appropriation, and the remaining 2.85 percent is apportioned to the high-intensity motorbus tier.

4. Requirements

In addition to the program guidance found in the FTA Circular 5300.1, “State of Good Repair Grants Program: Guidance and application Instructions,” all recipients must comply with the regulation at 49 CFR part 625, issued under the authority of Section 5326 for the Transit Asset Management plan (TAM).

5. Period of Availability

The State of Good Repair Program funds apportioned in this notice are available for obligation during FY 2019 plus three additional years. Accordingly, funds apportioned in FY 2019 must be obligated in grants by September 30, 2022. Any FY 2019 apportioned funds that remain unobligated at the close of business on September 30, 2022 will revert to FTA for reappointment under the State of Good Repair Program.

6. Other Program Information

In July 2016, FTA published a Final Rule (49 CFR part 625) for Transit Asset Management (81 FR 48890, July 26, 2016). Each grantee had to have a TAM plan in place by October 1, 2018 unless FTA granted it an extension. Beginning in FY 2019, all projects funded under the State of Good Repair Program must appear in the investment prioritization of the grantee's TAM plan.

O. Grants for Buses and Bus Facilities Program (49 U.S.C. 5339)

The Grants for Buses and Bus Facilities Program provides financial assistance to states, local governmental entities that operate fixed route bus service, and designated recipients for capital investments in public transportation systems to replace, rehabilitate, lease, and purchase buses and related equipment and to construct bus-related facilities, including technological changes or innovations to modify low or no emission vehicles or facilities. Funding is provided through Section 5339(a) formula allocations, Section 5339(b) competitive grants, and Section 5339(c) low or no emission grants.

For more information or questions on the Grants for Buses and Bus Facilities Formula Program, please contact John Bodnar at (202) 366-9091 or john.bodnar@dot.gov. For information or questions regarding the competitive Buses and Bus Facilities Infrastructure Investment Program please contact Mark G. Bathrick at (202) 366-9955 or mark.bathrick@dot.gov. For information or questions regarding the competitive Low or No Emissions Grant Program, contact Tara Clark at (202) 366-2623 or tara.clark@dot.gov.

1. Authorized Amounts

Federal public transportation law authorizes $454,964,489 for the Grants for Buses and Bus Facilities Formula program and $322,059,980 for the Grants for Buses and Bus Facilities Competitive program, of which $55,000,000 is available for the Low or No Emissions program in FY 2019 to provide financial assistance for the Grants for Buses and Bus Facilities Program.

2. Funding Availability

Under the Consolidated Appropriations Act, 2019, $614,964,489 is available for the Grants for Buses and Bus Facilities Formula Program, $512,059,980 is available for the Grants for Buses and Bus Facilities Competitive Program of which $85,000,000 is available for the Low or No Emission Grants Program.

After the 0.75 percent take-down for oversight, $610,352,255 is available for the Grants for Buses and Bus Facilities Formula Program, $423,219,530 is available for the Grants for Buses and Bus Facilities Competitive Program, and $85,000,000 is available for the Low or No Emission Grants Program. The amounts are shown in the table below.

Formula Grants for Buses and Bus Facilities
Total Formula Appropriation available | $614,964,489
Oversight Deduction | (4,612,234)
Total Formula Apportioned | $610,352,255
Low or No Emission Grants for Buses and Bus Facilities
Total Appropriation available | $85,000,000
Total Low or No Apportioned | $85,000,000
Competitive Grants for Buses and Bus Facilities
Total Competitive Appropriation available | 512,059,980
Oversight Deduction | (3,840,450)
Low or No Emission Grants | (85,500,000)
Total Bus Competition Apportioned | $423,219,530

3. Basis for Formula Apportionment

Section 5339(a) Buses and Bus Facilities Program formula funds are apportioned to States, territories, and designated recipients based on a statutory formula. Under the national distribution, each State is allocated $3.5 million and each territory is allocated $1 million for use anywhere in the State or territory for FY 2019. The remainder of the available funding is then apportioned to UZAs based on population, vehicle revenue miles, and passenger miles using the same apportionment formula and allocation process as the Urbanized Area Formula Program. Funds for UZAs under 200,000 in population are apportioned to the State for allocation to eligible recipients within such areas of the State at the Governor's discretion. Funds for UZAs with populations of 200,000 or more are apportioned directly to one or more designated recipient(s) within each UZA for allocation to eligible projects and recipients within the UZA.

FTA allocates funds under the competitive Section 5339(b) and 5339(c) programs on an annual basis based on a notice of funding opportunity, which contains detailed guidance on applicant eligibility, project eligibility, evaluation criteria, and application requirements.

4. Requirements

Eligible recipients for Section 5339(a) formula grants include: (1) Designated recipients that allocate funds to fixed route bus operators, and (2) States and local governmental entities that operate fixed route bus service. Eligible subrecipients include public agencies or private nonprofit organizations engaged in public transportation, including those providing services open to a segment of the general public as defined by age, disability, or low income. The definition of eligible recipients applies to funding apportioned in previous fiscal years that remain available for obligation. The requirements of the Urbanized Area Formula Program apply to recipients of Section 5339 funds within an urbanized area. The requirements of Formula Grants for Rural Areas program apply to recipients of Section 5339 funds within rural areas.

Under prior law, only designated recipients were eligible direct recipients of Section 5339(a) funds. Given that State and local government entities that operate fixed route service are now eligible direct recipients of Section 5339(a) funds, FTA does not require designated recipients to maintain program management plans (PMPs) if they do not manage any sub-awards of Section 5339 funds.

For additional program requirements, refer to FTA Circular 5100, “Buses and Bus Facilities Formula Program: Guidance and Application Instructions.”

5. Period of Availability

The Bus and Bus Facilities Program formula funds apportioned in this notice are available for obligation during FY 2019 plus three additional years. Accordingly, funds apportioned in FY 2019 must be obligated in grants by September 30, 2022. Any FY 2019 apportioned funds that remain unobligated at the close of business on September 30, 2022 will revert to FTA for reapportionment under the Buses and Bus Facilities Formula Program. Competitive program funds authorized under Sections 5339(b) and 5339(c) follow the same period of availability and reapportionment policy based on the selection date.

P. Growing States and High-Density States Formula Factors (49 U.S.C. 5340)

Federal public transportation law authorizes the use of formula factors to distribute additional funds to the Section 5307 Urbanized Area Formula program and Section 5311 Formula Grants for Rural Areas program for growing states and high-density states. FTA will continue to publish single urbanized and rural apportionments that show the total amount for Section 5307 and 5311 programs that includes Section 5340 apportionments for these programs.

For more information or questions on this program, please contact Tara Clark at (202) 366-2623 or tara.clark@dot.gov.

1. Authorized Amounts

Federal public transportation law authorizes $561,315,120 for apportionment in FY 2019 for the Growing States and High-Density States Formula factors.

2. FY 2019 Funding Availability

Under the Consolidated Appropriations Act, 2019, $601,315,120 is available for the Growing States and High-Density States formula.

Growing States and High-Density States Formula Factors
Growing States | $293,311,066
High-Density States | 308,004,054
Total Apportioned | 601,315,120

3. Basis for Formula Apportionment

Under the Growing States portion of the Section 5340 formula, FTA projects each State's 2025 population by comparing each State's apportionment year population (as determined by the Census Bureau) to the State's 2010 Census population and extrapolating to 2025 based on each State's rate of population growth between 2010 and the apportionment year. Each State receives a share of Growing States funds based on its projected 2025 population relative to the nationwide projected 2025 population.

Once each State's share is calculated, funds attributable to that State are divided into an urbanized area allocation and a non-urbanized area allocation based on the percentage of each State's 2010 Census population that resides in urbanized and non-urbanized areas. Urbanized Areas receive portions of their State's urbanized area allocation based on the 2010 Census population in that urbanized area relative to the total 2010 Census population in all urbanized areas in the State. These amounts are added to the Urbanized Area's Section 5307 apportionment.

The States' rural area allocation is added to the allocation that each State receives under the Formula Grants for Rural Areas program.

The High-Density States portion of the Section 5340 formula are allocated to urbanized areas in States with a population density equal to or greater than 370 persons per square mile. Based on this threshold and 2010 Census data, the States that qualify are Maryland, Delaware, Massachusetts, Connecticut, Rhode Island, New York, and New Jersey. The amount of funds provided to each of these seven States is allocated based on the population density of the individual State relative to the population density of all seven States. Once funds are allocated to each State, funds are then allocated to urbanized areas within the States based on an individual urbanized area's population relative to the population of all urbanized areas in that State.

Q. Washington Metropolitan Area Transit Authority Grants

Section 601 of the Passenger Rail Investment and Improvement Act of 2008 (PRIIA) authorized an aggregate amount of $1.5 billion to be available in increments over 10 fiscal years beginning in fiscal year 2009 to assist the Washington Metropolitan Transit Authority (WMATA) in implementing its Capital Improvement Program and preventive maintenance projects. Although authorized in FY 2009, funding was appropriated beginning in FY 2010. Therefore, the incremental funding spans FY 2010 thru FY 2019.

For more information or questions on the Washington Metropolitan Area Transit Authority Grants program, please contact Eric Hu at (202) 366-0870 or eric.hu@dot.gov or Timothy Steinitz at (215) 656-7253 or timothy.steinitz@dot.gov.

1. Authorized Amounts

Section 601 of PRIIA authorizes $150,000,000.

2. FY 2109 Funding Availability

Under the Consolidated Appropriations Act, 2019, $150,000,000 is available. The total amount available is $148,500,000 after the deduction for oversight as shown in the table below.

Washington Metropolitan Area Transit Authority Grants
Total Appropriation available | $150,000,000
Oversight Deduction | (1,500,000)
Total Apportioned | 148,500,000

3. Basis for Allocation

The funding is authorized under Section 601, Authorization for Capital and Preventive Maintenance Projects for Washington Metropolitan Area Transit Authority, of the Passenger Rail Investment and Improvement Act of 2008, (Pub. L. 110-432) Division B, Title VI.

4. Requirements

Grants may be provided for capital and preventive maintenance expenditures for WMATA after it has been determined that WMATA has placed the highest priority on investments that will improve the safety of the system, including, but not limited, to fixing the track signal system, replacing 1000 series railcars, installing guarded turnouts, buying equipment for wayside worker protection, and installing rollback protection on cars that are not equipped with the safety feature. FTA will communicate further program requirements directly to WMATA. The maximum Federal share for each project shall be for 50 percent of the net project cost of the project, and matching funds shall be provided in cash from sources other than Federal funds or revenues from the operation of public transportation systems.

5. Period of Availability

Funds appropriated for WMATA under Section 601 of PRIIA shall remain available until expended.

V. FTA Policy and Procedures for FY 2019 Grants

A. Automatic Pre-Award Authority To Incur Project Costs

1. Caution to New Grantees

While FTA provides pre-award authority to incur expenses before grant award for formula programs, it recommends that first-time grant recipients NOT utilize this automatic pre-award authority without verifying with the appropriate FTA Regional Office that all pre-requisite requirements have been met. Commonly, a new grantee may misunderstand pre-award authority conditions and be unaware of all the applicable FTA requirements that must be met in order to be reimbursed for project expenditures incurred in advance of grant award. FTA programs have specific statutory requirements that are often different from those for other Federal grant programs with which new grantees may be familiar. If funds are expended for an ineligible project or activity, or for an eligible activity but at an inappropriate time (e.g., prior to NEPA completion), FTA will be unable to reimburse the project sponsor and, in certain cases, the entire project may be rendered ineligible for FTA assistance.

2. Policy

FTA provides pre-award authority to incur expenses before grant award for certain program areas described below. This pre-award authority allows grantees to incur certain project costs before grant approval and retain the eligibility of those costs for subsequent reimbursement after grant approval. The grantee assumes all risk and is responsible for ensuring that all conditions are met to retain eligibility. This pre-award spending authority permits an eligible grantee to incur costs on an eligible transit capital, operating, planning, or administrative project without prejudice to possible future Federal participation in the cost of the project. In this notice, FTA provides pre-award authority through the authorization period of the FAST Act (October 1, 2015 through September 30, 2020) for capital assistance under all formula programs, so long as the conditions described below are met. FTA provides pre-award authority for planning and operating assistance under the formula programs without regard to the period of the authorization. All pre-award authority is subject to conditions and triggers stated below:

a. Operating, Planning, or Administrative Assistance

FTA does not impose additional conditions on pre-award authority for operating, planning, or administrative assistance under the formula grant programs. Grantees may be reimbursed for expenses incurred before grant award so long as funds have been expended in accordance with all Federal requirements, would have been allowable if incurred after the date of award, and the grantee is otherwise eligible to receive the funding. In addition to cross-cutting Federal grant requirements, program specific requirements must be met. For example, a State of Good Repair Formula Grants project on or after October 1, 2018 must be included in the grantee's certified TAM Plan, a planning project must be included in a Unified Planning Work Program (UPWP); a Section 5310 project be included in a coordinated public transit-human services transportation plan (coordinated plan) and selected by the designated recipient before incurring expenses, and expenditures on State Administration expenses under State Administered programs must be consistent with the State Management Plan (as defined in FTA Circular 9040.1G, Chapter 6). Designated recipients for Section 5310 have pre-award authority for the ten percent of the apportionment they may use for program administration.

b. Transit Capital Projects

For transit capital projects, the date that costs may be incurred varies depending on the type of activity and its potential to have a significant impact on the human and natural environment as described under conditions in section 3 below. Before an applicant may incur costs when pre-award authority has not been granted, it must first obtain a written Letter of No Prejudice (LONP) from FTA. To obtain an LONP, a grantee must submit a written request accompanied by adequate information and justification to the appropriate FTA regional office, as described in section 4 below.

c. Public Transportation Innovation, Technical Assistance and Workforce Development

Unless provided for in an announcement of project selections, pre-award authority does not apply to Section 5312 Public Transportation Innovation projects or Section 5314 Technical Assistance and Workforce Development projects. Before an applicant may incur costs for activities under these programs, it must first obtain a written LONP from FTA. To obtain an LONP, a grantee must submit a written request accompanied by adequate information and justification to the appropriate FTA headquarters office. Information about LONP procedures may be obtained from the appropriate headquarters office.

3. Conditions

The conditions under which pre-award authority may be utilized are specified below:

a. Pre-award authority is not a legal or implied commitment that the subject project will be approved for FTA assistance or that FTA will obligate Federal funds. Furthermore, it is not a legal or implied commitment that all items undertaken by the applicant will be eligible for inclusion in the project.

b. All FTA statutory, procedural, and contractual requirements must be met.

c. No action will be taken by the grantee that prejudices the legal and administrative findings that FTA must make in order to approve a project.

d. Local funds expended by the grantee after the date of the pre-award authority will be eligible for credit toward local match or reimbursement if FTA later makes a grant or grant amendment for the project. Local funds expended by the grantee before the date of the pre-award authority will not be eligible for credit toward local match or reimbursement. Furthermore, the expenditure of local funds or the undertaking of certain activities that would compromise FTA's ability to comply with Federal environmental laws (e.g., project implementation activities such as land acquisition, demolition, or construction before the date of pre-award authority) may render the project ineligible for FTA funding.

e. The Federal amount of any future FTA assistance awarded to the grantee for the project will be determined based on the overall scope of activities and the prevailing statutory provisions with respect to the Federal/local match ratio at the time the funds are obligated.

f. For funds to which the pre-award authority applies, the authority expires with the lapsing of the fiscal year funds.

g. When a grant for the project is subsequently awarded, the grant and the Federal Financial Report in TrAMS must indicate the use of pre-award authority.

h. Environmental Requirements.

All Federal environmental requirements must be met at the appropriate time for a project to remain eligible for Federal funding. Designated recipients may incur costs for design and environmental review activities for all formula funded projects from the date of the authorization of the formula funds or for discretionary funded projects other than those funded by the Capital Investment Grants (CIG) program from the date of the announcement of the competitive allocation of funds for the project.

For projects that qualify for a categorical exclusion (CE) pursuant to 23 CFR 771.118(c), designated recipients may start activities and incur costs under pre-award authority for property acquisition, demolition, construction, and acquisition of vehicles, equipment, or construction materials from the date of the authorization of formula funds or the date of the announcement of competitive allocations for the project.

FTA recommends that a grant applicant considering a CE pursuant to 23 CFR 771.118(c) contact FTA's Regional Office for assistance in determining the appropriate environmental review process and level of documentation necessary before incurring the above-mentioned costs, especially when the grant applicant believes a CE at 23 CFR 771.118(c)(8), (9), (10), (12), or (13) applies to its project. If FTA subsequently finds that a project does not qualify for a CE under 23 CFR 771.118(c) and the sponsor has already undertaken activities under pre-award authority, the project will be ineligible for FTA assistance.

For all other non-CIG projects that do not qualify for a CE under 23 CFR 771.118(c), grant applicants may take action and incur costs for property acquisition, demolition, construction, and acquisition of vehicles, equipment, or construction materials from the date that FTA completes the environmental review process required by NEPA and its implementing regulations, 23 U.S.C. 139, and other environmental laws, by its issuance of a 23 CFR 771.118(d) categorical exclusion determination, a finding of no significant impact (FONSI), a combined final environmental impact statement (FEIS)/record of decision (ROD), or a ROD.

i. Planning and other requirements.

Formula funds must be authorized or appropriated and competitive project allocations published or announced before pre-award authority can be considered. The requirements that a capital project be included in a locally adopted Metropolitan Transportation Plan, the metropolitan transportation improvement program, and the federally approved statewide transportation improvement program (23 CFR part 450) must be satisfied before the grantee may advance the project beyond planning and preliminary design with non-federal funds under pre-award authority. If the project is located within an EPA-designated non-attainment or maintenance area for air quality, the conformity requirements of the Clean Air Act, 40 CFR part 93, must also be met before the project may be advanced into implementation-related activities under pre-award authority triggered by the completion of the NEPA process. For a planning project to have pre-award authority, the planning project must be included in a MPO-approved UPWP that has been coordinated with the State.

j. Federal procurement procedures, as well as the whole range of applicable Federal requirements (e.g., Buy America, Davis-Bacon Act, and Disadvantaged Business Enterprise) must be followed for projects in which Federal funding will be sought in the future. Failure to follow any such requirements could make the project ineligible for Federal funding. In short, the administrative flexibility allowed by pre-award authority requires a grantee to make certain that no Federal requirements are circumvented.

k. All program specific requirements must be met. For example, projects under Section 5310 must comply with specific program requirements, including coordinated planning. Before incurring costs, grantees are strongly encouraged to consult with the appropriate FTA Regional Office regarding the eligibility of the project for future FTA funds and for questions on environmental requirements, or any other Federal requirements that must be met.

4. Pre-Award Authority for the Fixed Guideway Capital Investment Grants Program

Projects proposed for Section 5309 CIG program funds are required to follow a multi-step, multi-year process defined in law. For New Starts and Core Capacity projects, this process includes three phases: Project development (PD), engineering, and construction. For Small Starts projects, this process includes two phases: PD and construction. After receiving a letter from the project sponsor requesting entry into the PD phase, FTA must respond in writing within 45 days whether the information was sufficient for entry. If FTA's correspondence indicates the information was sufficient and the New Starts, Small Starts or Core Capacity project enters PD, FTA extends pre-award authority at that time to the project sponsor to incur costs for PD activities. PD activities include the work necessary to complete the environmental review process and as much engineering and design activities as the project sponsor believes are necessary to support the environmental review process. Upon completion of the environmental review process with a combined FEIS/ROD, ROD, FONSI, or CE determination by FTA for a New Starts, Small Starts, or Core Capacity Improvement project, FTA extends pre-award authority to the project sponsor to incur costs for as much engineering and design as needed to develop a reasonable cost estimate and financial plan for the project, utility relocation, and real property acquisition and associated relocations for any property acquisitions not already accomplished as a separate project for hardship or protective purposes or right-of-way under 49 U.S.C. 5323(q).

For Small Starts projects, upon completion of the environmental review process and confirmation from FTA that the overall project rating is at least a Medium, FTA extends pre-award authority for vehicle purchases. Upon receipt of a letter notifying a New Starts or Core Capacity project sponsor of the project's approval into the engineering phase, FTA extends pre-award authority for vehicle purchases as well as any remaining engineering and design, demolition, and procurement of long lead items for which market conditions play a significant role in the acquisition price. The long lead items include, but are not limited to, procurement of rails, ties, and other specialized equipment, and commodities.

Please contact the FTA Regional Office for a determination of activities not listed here, but which meet the intent described above. FTA provides this pre-award authority in recognition of the long-lead time and complexity involved with purchasing vehicles as well as their relationship to the “critical path” project schedule. FTA cautions grantees that do not currently operate the type of vehicle proposed in the project about exercising this pre-award authority. FTA encourages these sponsors to wait until later in the process when project plans are more fully developed. FTA reminds project sponsors that the procurement of vehicles must comply with all Federal requirements, including, but not limited to, competitive procurement practices, the Americans with Disabilities Act, Disadvantaged Business Enterprise program requirements and Buy America. FTA encourages project sponsors to discuss the procurement of vehicles with FTA in regard to Federal requirements before exercising pre-award authority. Because there is not a formal engineering phase for Small Starts projects, FTA does not extend pre-award authority for demolition and procurement of long lead items. Instead, this work must await receipt of a construction grant award or an expedited grant agreement.

a. Real Property Acquisition

As stated above, FTA extends pre-award authority for the acquisition of real property and real property rights for CIG projects (New or Small Starts or Core Capacity) upon completion of the environmental review process for that project. The environmental review process is completed when FTA signs a combined FEIS/ROD, ROD, FONSI, or makes a CE determination. With the limitations and caveats described below, real estate acquisition may commence, at the project sponsor's risk. To maintain eligibility for a possible future FTA grant award, any acquisition of real property or real property rights must be conducted in accordance with the requirements of the Uniform Relocation Assistance and Real Property Acquisition Policies Act (URA) and its implementing regulations, 49 CFR part 24. This pre-award authority is strictly limited to costs incurred: (i) To acquire real property and real property rights in accordance with the URA regulation; and (ii) to provide relocation assistance in accordance with the URA regulation. This pre-award authority is limited to the acquisition of real property and real property rights that are explicitly identified in the draft environmental impact statement (DEIS), FEIS, environmental assessment (EA), or CE documentation, as needed for the selected alternative that is the subject of the FTA-signed combined FEIS/ROD, ROD, FONSI, or CE determination. This pre-award authority regarding property acquisition that is granted at the completion of the environmental review process does not cover site preparation, demolition, or any other activity that is not strictly necessary to comply with the URA, with one exception—namely when a building that has been acquired, vacated, and awaits demolition poses a potential fire safety hazard or other hazard to the community in which it is located, or is susceptible to unauthorized occupants. Demolition of the building is also covered by this pre-award authority upon FTA's written agreement that the adverse condition exists. Pre-award authority for property acquisition is also provided when FTA makes a CE determination for a protective buy or hardship acquisition in accordance with 23 CFR 771.118(d)(3). Pre-award authority for property acquisition is also provided when FTA completes the environmental review process for the acquisition of right-of-way as a separate project in accordance with 49 U.S.C. 5323(q). When a tiered environmental review in accordance with 23 CFR 771.111(g) is used, pre-award authority is NOT provided upon completion of the first-tier environmental document except when the Tier-1 ROD or FONSI signed by FTA explicitly provides such pre-award authority for a particular identified acquisition. Project sponsors should use pre-award authority for real property acquisition relocation assistance with a clear understanding that it does not constitute a funding commitment by FTA. FTA provides pre-award authority upon completion of the environmental review process for real property acquisition and relocation assistance for displaced persons and businesses in accordance with the requirements of the URA.

b. Reimbursement of Costs Incurred Under Pre-Award Authority

Although FTA provides pre-award authority for property acquisition, long lead items, demolition, utility relocation, and vehicle purchases upon completion of the environmental review process, FTA does not award Federal funding for these activities conducted under pre-award authority until the project receives a CIG program construction grant. This is to ensure that Federal funds are not risked on a project whose advancement into construction is not yet assured.

c. National Environmental Policy Act (NEPA) Activities

NEPA requires that certain projects proposed for FTA funding assistance be subjected to a public and interagency review of the need for the project, its environmental and community impacts, and alternatives to avoid and reduce adverse impacts. Projects of more limited scope also need a level of environmental review to determine whether there are significant environmental impacts or confirmation that a CE applies. FTA's regulation titled “Environmental Impact and Related Procedures,” at 23 CFR part 771 states that the costs incurred by a grant applicant for the preparation of environmental documents requested by FTA are eligible for FTA financial assistance (23 CFR 771.105(f)). Accordingly, FTA extends pre-award authority for costs incurred to comply with NEPA regulations and to conduct NEPA-related activities, effective as of the earlier of the following two dates: (1) The date of the Federal approval of the relevant STIP or STIP amendment that includes the project or any phase of the project, or that includes a project grouping under 23 CFR 450.216(j) that includes the project; or (2) the date that FTA approves the project into the project development phase of the CIG program. The grant applicant must notify the FTA Regional Office to initiate the Federal environmental review process in accordance with the “Dear Colleague” letter from the FTA Administrator dated February 24, 2011. NEPA-related activities include, but are not limited to, public involvement activities, historic preservation reviews, Section 4(f) evaluations, wetlands evaluations, endangered species consultations, and biological assessments. This pre-award authority is strictly limited to costs incurred to conduct the NEPA process and associated engineering, and to prepare environmental, historic preservation and related documents. When a New Starts, Small Starts, or Core Capacity project is granted pre-award authority for the environmental review process, the reimbursement for NEPA activities conducted under pre-award authority may be sought at any time through Section 5307 (Urbanized Area Formula Program) or the flexible highway programs (e.g., Surface Transportation Program or Congestion Mitigation and Air Quality Improvement Program). Reimbursement from the Section 5309 CIG program for NEPA activities conducted under pre-award authority is provided only for expenses incurred after entry into the project development phase and only once a construction grant agreement is signed. As with any pre-award authority, FTA reimbursement for costs incurred is not guaranteed.

d. Other Activities Requiring Letter of No Prejudice (LONP)

Except as discussed in paragraphs i through iii above, a CIG project sponsor must obtain a written LONP from FTA before incurring costs for any activity not covered by pre-award authority. To obtain an LONP, an applicant must submit a written request accompanied by adequate information and justification to the appropriate FTA Regional Office, as described in B below.

B. Letter of No Prejudice (LONP) Policy

1. Policy

LONP authority allows an applicant to incur costs on a project utilizing non-Federal resources, with the understanding that the costs incurred subsequent to the issuance of the LONP may be reimbursable as eligible expenses or eligible for credit toward the local match should FTA approve the project for a grant award at a later date. LONPs are applicable to projects and project activities not covered by automatic pre-award authority. The majority of LONPs will be for Section 5309 CIG program projects undertaking activities not covered under automatic pre-award authority. LONPs may be issued for formula funds beyond the life of the current authorization or FTA's extension of automatic pre-award authority; however, the LONP is limited to a five-year period, unless otherwise authorized in the LONP. Receipt of Federal funding under any program is not implied or guaranteed by an LONP.

2. Conditions and Federal Requirements

The conditions and requirements for pre-award authority specified in section V.4.ii and V.4.iii above apply to all LONPs. Because project implementation activities may not be initiated before completion of the environmental review process, FTA will not issue an LONP for such activities until the environmental review process has been completed with a combined FEIS/ROD, ROD, FONSI, or CE determination.

3. Request for LONP

Before incurring costs for project activities not covered by automatic pre-award authority, the project sponsor must first submit a written request for an LONP, accompanied by adequate information and justification, to the appropriate regional office and obtain written approval from FTA. FTA approval of an LONP is determined on a case-by-case basis. Federal funding under the CIG program is not implied or guaranteed by an LONP. Specifically, when requesting an LONP, the applicant shall provide the following items:

a. Description of the activities to be covered by the LONP.

b. Justification for advancing the identified activities. The justification should include an accurate assessment of the consequences to the project scope, schedule, and budget should the LONP not be approved.

c. Allocated level of risk and contingency for the activity requested.

C. FY 2019 Annual List of Certifications and Assurances

Section 5323(n) requires FTA to publish annually a list of all certifications required under Chapter 53 concurrently with the publication of this annual apportionment notice. The 2019 version of FTA's Certifications and Assurances is available on FTA's website. FTA cannot make an award or an amendment to an award unless the recipient has executed the latest version of FTA's Certifications and Assurances. FTA encourages recipients of formula funding to execute the new Certifications and Assurances within 90 days of this notice, to prevent any delay to application processing.

D. Civil Rights Requirements

1. Civil Rights Overview

Recipients must carry out provisions of the Americans with Disabilities act (ADA) of 1990, Section 504 of the Rehabilitation Act of 1973, as amended, and the Department of Transportation's implementing regulations at 49 CFR parts 27, 37, 38, and 39. FTA's ADA Circular (4710.1) provides guidance for carrying out the regulatory requirements of the ADA. In addition, recipients must regularly prepare and submit civil rights program plans and reports to establish voluntary compliance and document policies and practices in the areas of Title VI, DBE and EEO. The current status of civil rights programs can be found on each recipient's Civil Rights Information page of TrAMS. New program plans and program updates must be submitted there as well. Before submitting an application for funding, recipients should consult with FTA Circulars and guidance and submit the following programs, as applicable:

a. Title VI of the Civil Rights Act of 1964: The Department of Transportation's Title VI implementing regulations are found in 49 CFR part 21. FTA's Title VI Circular (4702.1B) provides guidance for carrying out the regulatory requirements.

b. Disadvantaged Business Enterprise (DBE) program and triennial goal: The Department of Transportation's DBE implementing regulations are found in 49 CFR part 26 and provide guidance for carrying out the regulatory requirements and developing the triennial DBE goal.

c. Title VII of the Civil Rights Act of 1964, Equal Employment Opportunity (EEO): The Department of Transportation's EEO implementing regulations are found in 49 CFR part 21. FTA's EEO Circular (4704.1A) provides guidance for carrying out the regulatory requirements.

2. Disadvantaged Business Enterprise Program—Transit Vehicle Manufacturers (TVM)

Recipients exercising pre-award authority are expected to comply with the DBE regulations. The Department of Transportation's DBE program helps small businesses owned by socially and economically disadvantaged individuals to compete in the marketplace, and is designed to support the people who create jobs—our nation's entrepreneurs. When procuring vehicles, 49 CFR 26.49 requires that transit vehicle manufacturers (TVMs) “must establish and submit for FTA's approval an annual overall percentage goal” and “one that has been approved or has not been disapproved, at the time solicitations are made eligible for bid.”

It is the recipient's responsibility to ensure that the TVM has submitted a goal to FTA and FTA has either approved it or not disapproved it. A recipient may verify a TVM has submitted a DBE goal to FTA for its review by checking the FTA Eligible TVMs List located at www.transit.dot.gov/tvm. A recipient may request from FTA verification of the eligibility of a TVM not included on FTA's website. Please email your request to FTATVMSubmissions@dot.gov, and FTA will respond via email within five business days. Failure by a recipient to verify a TVM's eligibility to bid on an FTA-assisted contract prior to award cannot be cured after award of the contract and will likely result in FTA declining to provide federal funding for the vehicle procurement.

Furthermore, recipients are also reminded of the requirement in 49 CFR 26.49(a)(4), which states, “FTA recipients are required to submit within 30 days of making an award, the name of the successful bidder, and the total dollar value of the contract in the manner prescribed in the grant agreement.” Recipients are to report to FTA all vehicle purchases, post-production alterations, and retrofit procurements within the 30 days of award using the electronic Transit Vehicle Award Reporting form found at www.transit.dot.gov/dbe. Vehicles purchased solely for personal use and/or purchased “off the lot” do not need to be reported. Recipients that receive the funds directly from FTA must report on behalf of their subrecipients as well. Only the subrecipients that received the federal funds directly from FTA are responsible for reporting the vehicle awards to FTA.

E. Consolidated Planning Grants

FTA and FHWA planning funds under both the Metropolitan Planning and State Planning and Research Programs can be consolidated into a single consolidated planning grant, awarded by either FTA or FHWA. The Consolidated Planning Grants (CPG) eliminate the need to monitor individual fund sources, if several have been used, and ensures that the oldest funds will always be used first.

Under the CPG, States can report metropolitan planning program expenditures, to comply with the Uniform Guidance 2 CFR 200, subpart F, for both FTA and FHWA under the Catalogue of Federal Domestic Assistance number for FTA's Metropolitan Planning Program (20.505). Additionally, for States with an FHWA Metropolitan Planning (PL) fund-matching ratio greater than 80 percent, the State can waive the 20 percent local share requirement, with FTA's concurrence, to allow FTA funds used for metropolitan planning in a CPG to be granted at the higher FHWA rate. For some States, this Federal match rate can exceed 90 percent.

States interested in transferring planning funds between FTA and FHWA should contact the FTA Regional Office or FHWA Division Office for more detailed procedures. The FHWA Order 4551.1 dated August 12, 2013, on “Funding Transfers to Other Agencies and Among Title 23 Programs” provides guidance and more detailed information.

For further information on CPGs, contact Ann Souvandara, Office of Budget and Policy, FTA, at (202) 366-0649 or ann.souvandara@dot.gov.

F. Grant Application Procedures

All applications for FTA funds should be submitted to the appropriate FTA Regional Office. All applications are filed electronically. FTA continues to award and manage grants and cooperative agreements using the Transit Award Management System (TrAMS). Information on accessing and using TrAMS, including a list of FTA points of contact for the system, can be found on FTA's website at https://www.transit.dot.gov/TrAMS.

FTA regional staff are responsible for working with grantees to review and process grant applications. For an application to be considered complete and ready for FTA to assign a Federal Award Identification Number (FAIN), enabling submission in TrAMS, and submission to the Department of Labor, when applicable, the following requirements must be met:

1. Recipient has registered in the System for Award Management (SAM) and its registration is current with an active status. To register an entity or check the status and renew registration, visit the SAM website at https://www.sam.gov/SAM/.

2. Recipient's contact information, including Dun and Bradstreet Data Universal Numbering System (DUNS), is correct. To request a DUNS number, call Dun & Bradstreet at 1-866-705-5711 or visit the website at http://fedgov.dnb.com/webform.

3. Recipient has properly submitted its annual certifications and assurances.

4. Recipient's Civil Rights submissions are current.

5. After October 1, 2018, the grantee has a Transit Asset Management plan in place that meets the requirements of 49 CFR part 625, or is covered by a compliant Group Plan.

6. Documentation is on file to support recipient's status as either a designated recipient for the program and area or a direct recipient.

7. Funding is available, including any flexible funds included in the budget, and split letters or suballocation letters on file, where applicable, to support the amount requested in the grant application.

8. The activity is listed in a currently approved Transportation Improvement Program (TIP); Statewide Transportation Improvement Program (STIP), or Unified Planning Work Program (UPWP).

9. All eligibility issues are resolved.

10. Required environmental findings are made.

11. The application contains a well-defined scope of work, including at least one project with accompanying project narratives, at least one budget scope code and an activity line item, Federal and non-Federal funding amounts, and milestones.

12. Major Capital Projects as defined by 49 CFR part 633 “Project Management Oversight” must document FTA has reviewed the project management plan and provided approval.

13. Milestone information is complete. FTA will also review status of other open grants reports to confirm financial and milestone information is current on other open awards.

FTA must also provide Congressional notification before awarding competitive grants.

Other important issues that impact FTA grant processing activities in addition to the list above are discussed below.

a. Award Budgets—Scope Codes and Activity Line Items (ALI) Codes; Financial Purpose Codes

FTA uses Scope and ALI Codes in the award budgets to track disbursements, monitor program trends, report to Congress, and to respond to requests from the Inspector General and the Government Accountability Office, as well as to manage grants. The accuracy of the data is dependent on the careful and correct use of codes.

b. Designated and Direct Recipients Documentation

For its formula programs, FTA primarily apportions funds to the designated recipient in the large UZAs (areas over 200,000), or for areas under 200,000 (small UZAs and rural areas), it apportions the funds to the Governor, or its designee (e.g., State DOT). Depending on the program, as described in the individual program sections found in Section IV of this notice, further suballocation of funds may be permitted to eligible recipients who may then apply directly to FTA for the funding as direct recipients.

For the programs in which FTA may make grants to eligible direct recipients, other than the designated recipient(s), recipients are reminded that documentation must be on file to support: (1) The status of the recipient either as a designated recipient or direct recipient; and (2) the allocation of funds to the direct recipient.

Documentation to support existing designated recipients for the UZA must also be on file at the time of the first application in FY 2019. Split letters and/or suballocation letters (Governor's Apportionment letters), must also be on file to support grant applications from direct recipients. Once suballocation letters for FY 2019 funding are finalized they should be uploaded as part of the application into TrAMS.

The Direct Recipient is required to upload to TrAMS a copy of the suballocation letter (Letter) indicating their allocation of funding, for the appropriate fund program, when the applicant transmits their application for initial review. The Letter must be signed by the Designated Recipient, or as applicable in accordance with their planning requirements. If there are two Designated Recipients, both entities must sign the Letter. The Letter must: (1) Indicate the allocations to the respective Direct Recipients listed in the letter; (2) incorporate language above the signatories to reflect this agreement; and (3) make clear that the Direct Recipient will assume any/all responsibility associated with the award for the funds. When drafting the Letter, Designated Recipients may use the template language below:

“As identified in this Letter, the Designated Recipient(s) authorize the reassignment/reallocation of [enter fund source; e.g. Section 5307 funds] to the Direct Recipient(s) named herein. The undersigned agree to the amounts allocated/reassigned to each direct Recipient. Each Direct Recipient is responsible for its application to the Federal Transit Administration to receive such funds and assumes the responsibilities associated with any award for these funds.”

1. Payments

Once a grant has been awarded and executed, requests for payment can be processed. To process payments, FTA uses ECHO-Web, an internet accessible system that provides grantees the capability to submit payment requests online, as well as receive user-IDs and passwords via email. New applicants should contact the appropriate FTA Regional Office to obtain and submit the registration package necessary for set-up under ECHO-Web.

2. Oversight

FTA is responsible for conducting oversight activities to help ensure that grant recipients use FTA Federal financial assistance in a manner consistent with its intended purpose and in compliance with regulatory and statutory requirements. FTA conducts periodic oversight reviews to assess grantee compliance with applicable Federal requirements. Each Urbanized Area Formula Program recipient is reviewed every three years as part of FTA's Triennial Review; and States and state-wide public transportation agencies are reviewed periodically to assess the management practices and program implementation of FTA state-wide programs (e.g., Planning, Rural Areas, Enhanced Mobility of Seniors and Individuals with Disabilities Programs). Other more detailed reviews are scheduled based on an annual grantee oversight assessment. Important objectives of FTA's oversight program include, but are not limited to: Determining grantee compliance with Federal requirements; identifying technical assistance needs, and delivering technical assistance to meet those needs; spotting emerging issues with grantees; recognizing when there is a need for more in-depth reviews in the areas of procurement, financial management, and civil rights; and identifying grantees with recurring or systemic issues.

3. Technical Assistance

As noted throughout the notice, recipients should review FTA's program circulars for general program guidance. FTA headquarters and regional staff will be pleased to answer questions and provide any technical assistance needed to apply for FTA program funds and manage grants. At its discretion, FTA may also use program oversight consultants to provide technical assistance to grantees on a case by case basis. This notice and the program guidance circulars identified in this document may be accessed on FTA's website: www.transit.dot.gov.

G. Grant Management

1. Grant Reporting

FTA grantees are required to report on their grants. It is critical to ensure reports demonstrate that reasonable progress is being made on projects. At a minimum, all awards require a Federal Financial Report (FFR) and a Milestone Progress Report (MPR) on an annual basis. Some reports are required quarterly depending on the recipient and the type of projects funded under the grant and FTA's risk-based reporting policy that went into effect on October 1, 2017. The requirements for these reports and other reporting requirements can be found in the latest version of FTA Circular 5010. FTA staff, auditors, and contractors rely on the information provided in the FFR and MPR to review and report on the status of both financial and project-level activities contained in the grant. It is critical that recipients provide accurate and complete information in these reports and submit them by the required due date. Failure to report and/or demonstrate reasonable progress on projects can result in suspension or premature closeout of a grant.

2. Inactive Grants and Grant Closeout

In FY 2019, FTA will continue to focus on identifying and working with recipients to close inactive grants. If appropriate, FTA will act to closeout and deobligate funds from these grants if reasonable progress is not made. The efficient use of funds will further FTA's fulfillment of its mission to provide efficient and effective public transportation systems for the nation.

In October 2018, FTA identified a list of grants that were awarded on or prior to September 30, 2015 that had not disbursed funds since September 30, 2017 or had never disbursed funds. FTA Regional Offices will contact grant recipients with grants that meet these criteria, to close the grant and deobligate any remaining funds unless the grantee can provide information that demonstrates projects funded by the grant remain active and there is a realistic schedule to expedite completion of the projects.

Issued in Washington, DC.
K. Jane Williams,
Acting Administrator.

[FR Doc. 2019-14248 Filed 7-2-19; 8:45 am]

BILLING CODE 4910-57-P